DEPARTMENT OF HOMELAND SECURITY

Coast Guard

33 CFR Parts 1, 40, 62, 66, 80, 84, 100, 101, 104, 105, 110, 114, 115, 116, 117, 118, 126, 135, 151, 153, 154, 155, 156, 157, 158, 159, 161, 162, 164, 165, 166, 173, 174, 179, 181, 183, and 187

[USCG-2008-0179]

RIN 1625-ZA16

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public. These changes are provided to coincide with the annual recodification of Title 33 in July.

DATES: This final rule is effective June 19, 2008.

ADDRESSES: Comments and material received from the public, as well as documents mentioned in this preamble as being available in the docket, are part of docket USCG-2008-0179 and are available for inspection or copying at the Docket Management Facility, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions on this rule, call LCDR Reed Kohberger, CG-5232, Coast Guard, telephone 202-372-1471. If you have questions on viewing the docket, call Ms. Renee V. Wright, Program Manager, Docket Operations, telephone 202-366-9826.

SUPPLEMENTARY INFORMATION:

Table of Contents for Preamble

I. Regulatory History

II. Background and Purpose

III. Discussion of Rule

IV. Regulatory Evaluation

A. Executive Order 12866

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this regulation. Under both 5 U.S.C. 553(b)(A) and (b)(B), the Coast Guard finds this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

II. Background and Purpose

Each year the printed edition of Title 33 of the Code of Federal Regulations is recodified on July 1. This rule, which becomes effective June 19, 2008, makes technical and editorial corrections throughout Title 33. This rule does not create any substantive requirements.

III. Discussion of Rule

This rule updates Coast Guard headquarters and field office designations, telephone numbers, and Web site addresses. These updates are non-substantive and are located throughout 33 CFR Parts 1, 62, 66, 84, 101, 104, 105, 114, 116, 118, 135, 151, 153, 154, 155, 156, 157, 159, 162, 164, 165, 174, 179, 181, 183, and 187. Sections 80.505, 80.715, 80.805, 101.415, 126.3, 157.37, 162.75, 162.90, 162.220, and 166.200 are amended to correct typographical and grammatical errors. The phrase “public hearing” has been amended to “public meeting” in parts 115, 116, and 118. This change has been made so as to better describe the public's role in commenting on proposed bridge actions. In the past, the Coast Guard has used the term “public hearing” to describe the informal process which allows the public an opportunity to voice their opinion regarding Coast Guard proposed bridge actions. We have noted that the use of the term “hearing” may cause some confusion among members of the public. Therefore, in an effort to clarify the public's role regarding proposed bridge actions, we have removed the word “hearing” and replaced it with “meeting”. Changing the wording from “hearing” to “meeting” has no substantive effect on how the Coast Guard currently announces or gathers public opinion or other information regarding bridge matters, nor will it change the substance of the public's involvement in the process. Lastly, in sections 153.103, 154.1016, 154.1216, and 165.100, the reference to the definition of “Navigable waters” is updated to accurately reflect where the definition may be referenced within the Code of Federal Regulations (CFR).

Additional amendments to parts 1, 40, 66, 80, 100, 101, 104, 110, 114, 117, 151, 155, 157, 158, 161, 162, 165, 166, 173, and 187 are as follows:

33 CFR 1.05. In § 1.05(d), we have updated the delegation of rulemaking authority from the Commandant to the Assistant Commandant for Marine Safety, Security, and Stewardship (CG-5), the Director of the National Pollution Fund (Director, NPFC), and the Chief, Office of Regulations and Administrative Law (CG-0943). In paragraph (e) of this section, we have removed the authority previously delegated to District Commanders and associated with the establishment of special local regulations and added it to paragraph (f) as delegated authority to Captains of the Port. In § 1.05-10, we have removed the word “project” and replaced it with “documents” so as to clearly identify those rulemaking documents that must be approved by the Commandant. In § 1.05-20(c), we have removed the word “file” and replaced it with “docket” so as to better identify how the public may access our rulemaking documents. Lastly, in § 1.05-25, we have updated the references to Web sites where docket information for Coast Guard rulemaking projects may be obtained, and we have provided brief descriptions on how to access those documents.

33 CFR 40.1. This section is updated to inform the public of the forms necessary for application to the Coast Guard Academy.

33 CFR 66.01-45. We removed a reference that does not exist in the CFR and replaced it with the correct reference.

33 CFR 80.738. We revised this section to properly identify coordinates. Previously, the Coast Guard described the location of a demarcation line by describing the location of an aid to navigation. The aids to navigation language has been removed, and we have inserted coordinates to identify the location of the demarcation line.

33 CFR 100.114. This section updates the location of fireworks displays within the First Coast Guard District and removes references to those fireworks displays that no longer occur.

33 CFR Part 101. The Navigation and Vessel Inspection Circular (NVIC) references are updated in sections 101.105 and 101.510 to reflect the most current version. NVIC's are guidance documents and do not impose substantive requirements on the public.

33 CFR Part 104. Section 104.106 is updated to clearly identify which locations passengers may access on passenger vessels. Section 104.292 updates references for passenger vessels and ferries. The references were changed as a result of the Transportation Worker Identification Credential rulemaking. 72 FR 3492. The substance of the references has not changed.

33 CFR Part 110. The geographic coordinates in § 110.60 have been revised to allow mariners to use the North American Datum of 1983. Additionally, many of the coordinates previously listed in § 110.60 have been relocated to a new § 110.59 to better align the areas of responsibility within the First Coast Guard District.

Section 110.155 is corrected to accurately identify coordinates using NAD 83. Sections 110.245 and 110.250 are amended to properly identify Coast Guard Sectors and Captains of the Port, respectively.

33 CFR Part 114. Section 114.01 has been amended to delete all references to legal authority within the regulatory text. Those authorities have been added to the “Authorities” section of this part.

33 CFR Part 117. In this part, we have updated the name of a bridge because the city changed the name.

33 CFR Part 151. In §§ 151.05, 151.09, 151.30, and 151.66 the references to the definitions for “Oceangoing ship”, “internal waters”, and “navigable waters” are updated to accurately reflect where those definitions can be referenced within the CFR. The definitions have not changed.

In § 151.06, we have inserted new “special areas.” In this instance, special areas are identified by the International Maritime Organization (IMO). The special areas added to this section are in international waters and will not be enforced by the Coast Guard. Publication of these special areas in this final rule will alert mariners of their existence if they travel internationally. Further, these special areas are not enforced by the IMO at this time. When the IMO elects to enforce these special areas, the Coast Guard will initiate a separate rulemaking to alert the public. In the appendix to subpart D of this part, we have removed the reference to “U.S. EEZ” and replaced it with “waters of the United States”. The regulatory text associated with this appendix requires mariners to comply with certain regulations if operating within the “waters of the United States”, and the appendix erroneously conveys that mariners must comply with certain regulations if operating within waters of the EEZ. This amendment will not create a new burden on the public as it merely aligns the appendix with the regulatory text.

In § 151.13, we have updated the list of “special areas.”

In § 151.43, the reference to 46 CFR 153.906 has been deleted because it does not exist.

In § 151.49, the duplicate reference to “isoppropylcyclohexane” has been removed.

33 CFR Part 155. The authorities section for this part is updated to accurately reflect the applicable authorities because a past rulemaking (68 FR 37738) inadvertently removed some of the applicable authorities for this part. The deleted authorities remain applicable, and as such, they are reinserted. The reinserted authorities do not create a new substantive burden on the public.

Sections 155.1025, 155.1030, and 155.1065 are amended to reflect updated references to the International Convention for the Prevention of Oil Pollution from Ships Annex I. The changes to the references do not create substantive burdens on the public. Section 155.1050 is updated to add the phrase “emergency lightering” in order to be consistent with other sections within this part. No new requirement is placed on the public with the insertion of this phrase.

33 CFR Part 157. In § 157.08, the reference to the term “territorial sea” is updated to accurately reflect where the definition may be referenced. The definition has not changed. Additionally, a few references in Appendix A, B, and C have been updated to accurately reflect updates to the regulations found in Annex I of the International Convention for the Prevention of Pollution from Ships, 1973 as modified by the Protocol of 1978. These updates reflect a consolidation of requirements, rather than new requirements, and are non-substantive in nature.

33 CFR 158.120. The reference to the definition of “Oceangoing ship” is updated to accurately reflect where the definition may be referenced. The definition has not changed.

33 CFR Part 161. We revised the authorities section because it erroneously identified the codified section for “Civil penalty” as 46 U.S.C. 70117 rather than 46 U.S.C. 70119. In § 161.12, we amended the frequency monitoring area mariners may use to contact the Coast Guard. The mariners have been using the updated frequency monitoring area for years, and as such, the change will reflect what has been in practice for the past several years.

33 CFR Part 162. In §§ 162.15(a) and 162.200(a), coordinates are corrected to accurately identify North and West latitudinal and longitudinal coordinates; respectively. Additionally, in §§ 162.220, 162.235, and 162.270, non-substantive clarification amendments are made to these sections.

33 CFR Part 165. Several sections in this part are amended to remove regulated navigation areas that are no longer active because of event cancellation or project completion. Further, the remaining associated regulated navigation area items have been rewritten to provide clarity.

33 CFR Part 166. In paragraph (d) of this section, we added North and West designations in the chart to provide clarity.

33 CFR 173.3(g). The definition of a “State” is amended to add the Commonwealth of the Northern Mariana Islands. This change is nonsubstantive as the Commonwealth of the Northern Mariana Islands has been included as an authoritative “State” for purposes of this part.

33 CFR Part 187. The definition of “approved numbering system” is amended to reflect “Secretary of the Department of Homeland Security” rather than the “Secretary of the Department of Transportation”.

IV. Regulatory Evaluation

A. Executive Order 12866

This final rule is considered to be a nonsignificant regulatory action under Executive Order 12866. Additionally, we expect no economic impact as a result of this rule; as such a full regulatory assessment is unnecessary. Accordingly, this rule has not been reviewed by the Office of Management and Budget (OMB).

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general notice of proposed rulemaking and, therefore, is exempt from the requirements of the Regulatory Flexibility Act. However, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

F. Taking of Private Property

This rule will not effect a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and does not create an environmental risk to health or risk to safety that may disproportionately affect children.

I. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs at OMB has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

L. Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b) of the Instruction from further environmental documentation because this rule involves editorial, procedural, and internal agency functions. A final “Environmental Analysis Check List” and a final “Categorical Exclusion Determination” are available in the docket where indicated under ADDRESSES.

List of Subjects

33 CFR Part 1

Administrative practice and procedure, Authority delegations (Government agencies), Freedom of information Penalties.

33 CFR Part 40

Military academies.

33 CFR Part 62

Navigation (water).

33 CFR Part 66

Intergovernmental relations, Navigation (water), Reporting and recordkeeping requirements.

33 CFR Part 80

Navigation (water), Treaties, Waterways.

33 CFR Part 84

Navigation (water), Waterways.

33 CFR Part 100

Marine safety, Navigation (water), Reporting and recordkeeping requirements, Waterways.

33 CFR Part 101

Harbors, Maritime security, Reporting and recordkeeping requirements, Security measures, Vessels, Waterways.

33 CFR Part 104

Maritime security, Reporting and recordkeeping requirements, Security measures, Vessels.

33 CFR Part 105

Maritime security, Reporting and recordkeeping requirements, Security measures.

33 CFR Part 110

Anchorage grounds.

33 CFR Part 114

Bridges.

33 CFR Part 115

Administrative practice and procedure, Bridges, Reporting and recordkeeping requirements.

33 CFR Part 116

Bridges.

33 CFR Part 117

Bridges.

33 CFR Part 118

Bridges.

33 CFR Part 126

Explosives, Harbors, Hazardous substances, Reporting and recordkeeping requirements.

33 CFR Part 135

Administrative practice and procedure, Continental shelf, Insurance, Oil pollution, Reporting and recordkeeping requirements.

33 CFR Part 151

Administrative practice and procedure, Oil pollution, Penalties, Reporting and recordkeeping requirements, Water pollution control.

33 CFR Part 153

Hazardous substances, Oil pollution, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 156

Hazardous substances, Oil pollution, Reporting and recordkeeping requirements, Water pollution control.

33 CFR Part 157

Cargo vessels, Oil pollution, Reporting and recordkeeping requirements.

33 CFR Part 158

Administrative practice and procedure, Harbors, Oil pollution, Penalties, Reporting and recordkeeping requirements, Water pollution control.

33 CFR Part 159

Alaska, Reporting and recordkeeping requirements, Sewage disposal, Vessels.

33 CFR Part 161

Harbors, Navigation (water), Reporting and recordkeeping requirements, Vessels, Waterways.

33 CFR Part 162

Navigation (water), Waterways.

33 CFR Part 164

Marine safety, Navigation (water), Reporting and recordkeeping requirements, Waterways.

33 CFR Part 165

Harbors, Marine safety, Navigation (water), Reporting and recordkeeping requirements, Security measures, Waterways.

33 CFR Part 166

Anchorage grounds, Marine safety, Navigation (water), Waterways.

33 CFR Part 173

Marine safety, Reporting and recordkeeping requirements.

33 CFR Part 174

Intergovernmental relations, Marine safety, Reporting and recordkeeping requirements.

33 CFR Part 179

Marine safety, Reporting and recordkeeping requirements.

33 CFR Part 181

Labeling, Marine safety, Reporting and recordkeeping requirements.

33 CFR Part 183

Marine safety.

33 CFR Part 187

Administrative practice and procedure, Marine safety, Reporting and recordkeeping requirements.

For the reasons discussed in the preamble, the Coast Guard amends 33 CFR parts 1, 40, 62, 66, 80, 84, 100, 101, 104, 105, 110, 114, 115, 116, 117, 118, 126, 135, 151, 153, 154, 155, 156, 157, 158, 159, 161, 162, 164, 165, 166, 173, 174, 179, 181, 183, and 187 as follows:

Title 33—Navigation and Navigable Waters

PART 1—GENERAL PROVISIONS

1. The authority citation in subpart 1.05 continues to read as follows:

Authority: 5 U.S.C. 552, 553, App. 2; 14 U.S.C. 2, 631, 632, and 633; 33 U.S.C. 471, 499; 49 U.S.C. 101, 322; Department of Homeland Security Delegation No. 0170.1.

§ 1.05-1 [Amended]

2. In § 1.05-1—

a. Revise paragraphs (d) and (f) and add a new paragraph (h) to read as set out below;

b. Remove paragraph (e)(1)(vi); and

c. In paragraph (g), remove the phrase “Environmental protection” and add, in its place, the word “Stewardship”.

§ 1.05-1 Delegation of rulemaking authority.

* * * * *

(d) The Commandant has redelegated the authority to develop and issue those regulations necessary to implement laws, treaties and Executive Orders to the Assistant Commandant for Marine Safety, Security and Stewardship (CG-5). The Commandant further redelegates this same authority to the Director, National Pollution Fund Center (Director, NPFC) for those regulations within the Director, NPFC area of responsibility.

(1) The Assistant Commandant for Marine Safety, Security, and Stewardship may further reassign the delegated authority of this paragraph to:

(i) Any Director within the CG-5 Directorate as appropriate; or

(ii) Any other Assistant Commandant as appropriate.

(2) The authority redelegated in paragraph (d) of this section is limited to those regulations determined to be nonsignificant within the meaning of Executive Order 12866.

* * * * *

(f) Except for those matters specified in paragraph (c) of this section, the Commandant has redelegated to Coast Guard Captains of the Port, with the reservation that this authority shall not be further redelegated, the authority to establish safety and security zones and special local regulations.

* * * * *

(h) The Chief, Office of Regulations and Administrative Law (CG-0943), has authority to develop and issue those regulations necessary to implement all technical, organizational, and conforming amendments and corrections to rules, regulations, and notices.

§ 1.05-10 [Amended]

3. In paragraph (c) remove the word “projects” and add, in its place, the word “documents”.

§ 1.05-20 [Amended]

4. In § 1.05-20—

a. In paragraph (a), remove the phrase “(G-LRA)” and add, in its place, the phrase “(CG-0943)” and

b. In paragraph (c), remove the word “file” and add, in its place, the word “docket”.

5. Revise § 1.05-25 to read as follows:

§ 1.05-25 Public docket.

(a) A public docket is maintained electronically for each petition for rulemaking and each Coast Guard rulemaking project and notice published in the Federal Register. Each docket contains copies of every rulemaking document published for the project, public comments received, summaries of public meetings or hearings, regulatory assessments, and other publicly-available information. Members of the public may inspect the public docket and copy any documents in the docket. Public dockets for Coast Guard rulemakings are available electronically at http://www.regulations.gov. To access a rulemaking, enter the docket number associated with rulemaking in the “Search” box and click “Go >>.” These documents are also kept at a Docket Management Facility maintained by the Department of Transportation, West Building, room W12-140, 1200 New Jersey Avenue, SE., Washington, DC 20590.

(b) The public dockets for Coast Guard rulemaking activity initiated by Coast Guard District Commanders are available for public inspection at the appropriate Coast Guard District office or online at http://www.regulations.gov. Paragraph (a) of this section describes how to access and view these documents.

(c) The public dockets for Coast Guard rulemaking activity initiated by Captains of the Port are available for inspection at the appropriate Captains of the Port Office or online at http://www.regulations.gov. Paragraph (a) of this section describes how to access and view these documents.

PART 40—CADETS OF THE COAST GUARD

6. The authority citation for part 40 continues to read as follows:

Authority: 14 U.S.C. 182 and 633; 49 CFR 1.46(b)

7. Revise § 40.1 to read as follows:

§ 40.1 Program for appointing cadets.

The Coast Guard conducts a program for appointing qualified men and women as cadets who are admitted to the Coast Guard Academy, New London, Connecticut. The Superintendent of the Coast Guard Academy tenders appointments on the basis of previous academic performance, reported College Entrance Examination Board or American College Testing scores, and the findings of a Cadet Candidate Evaluation Board, consisting of Coast Guard officers appointed by the Superintendent of the Coast Guard Academy, which reviews each applicant's personal qualifications. In addition, a Service Academy Medical Examination must be satisfactorily completed before appointment. Applications must be submitted online at http://www.uscga.edu using Coast Guard forms CGA-14, CGA-14A, CGA-14B, CGA-14C, and CGA-14D. These forms, along with additional information on the Cadet appointment program, may be obtained from the Director of Admissions, U.S. Coast Guard Academy, New London, CT 06320.

PART 62—UNITED STATES AIDS TO NAVIGATION SYSTEM

8. The authority citation for part 62 continues to read as follows:

Authority: 14 U.S.C. 85; 33 U.S.C. 1222, 1233; 43 U.S.C. 1333; Department of Homeland Security Delegation No. 0170.

9. In § 62.65, add a new paragraph (c)(3) to read as follows:

§ 62.65 Procedure for reporting defects and discrepancies.

* * * * *

(c) * * *

(3) Via our Web portal at http://www.navcen.uscg.gov.

PART 66—PRIVATE AIDS TO NAVIGATION

10. The authority citation for part 66 continues to read as follows:

Authority: 14 U.S.C. 83, 84, 85; 43 U.S.C. 1333; Pub. L. 107-296, 116 Stat. 2135; Department of Homeland Security Delegation No. 0170.1.

§ 66.01-5 [Amended]

11. In § 66.01-5 introductory text, remove “or you can request a paper copy by calling the Boating Safety Information line at (800) 368-5647”.

§ 66.01-45 [Amended]

12. In § 66.01-45, remove “64.10” and add, in its place, “64.11”.

PART 80—COLREGS DEMARCATION LINES

13. The authority citation for part 80 continues to read as follows:

Authority: 14 U.S.C. 2; 14 U.S.C. 633; 33 U.S.C. 151(a); 49 CFR 1.46.

14. Revise the heading of § 80.505 to read as follows:

§ 80.505 Cape Henlopen, DE, to Cape Charles, VA.

* * * * *

§ 80.715 [Amended]

15. In § 80.715, remove “(Range Rear)” and add, in its place, “Range Rear”.

16. In § 80.738, revise paragraph (b) to read as follows:

§ 80.738 Puerto Rico and Virgin Islands.

* * * * *

(b) A line drawn from Puerto San Juan Light to position 18°28′30″ N, 066°08′24″ W, at the northwest extent of Isla de Cabras across the entrance of San Juan Harbor.

§ 80.805 [Amended]

17. In § 80.805 paragraph (c), remove the phrase “(Range Rear)” and add, in its place, the phrase “Range Rear”.

PART 84—ANNEX I: POSITIONING AND TECHNICAL DETAILS OF LIGHTS AND SHAPES

18. The authority citation for part 84 continues to read as follows:

Authority: 33 U.S.C. 2071; Department of Homeland Security Delegation No. 0170.1.

§ 84.13 [Amended]

19. In § 84.13 paragraph (a), remove the phrase “(G-SEC-2)” and add, in its place, the phrase “(CG-432)”.

PART 100—SAFETY OF LIFE ON NAVIGABLE WATERS

20. The authority citation for part 100 continues to read as follows:

Authority: 33 U.S.C. 1233.

21. In § 100.114, revise the Fireworks Display Table in paragraph (a) to read as follows:

§ 100.114 Fireworks displays within the First Coast Guard District.

(a) * * *

Fireworks Display Table
May
Massachusetts:
5.1 | A night during Memorial Day Weekend | Name: Hull Memorial Day Festival. Sponsor: Town of Hull. Time: 8 p.m. to 10 p.m. Location: Barge located 200 yards off Nantasket Beach, Hull, MA.
June
Maine:
6.1 | A night during the Last week in June | Name: Windjammer Days Fireworks. Sponsor: Boothbay Harbor Chamber of Commerce. Time: 9 p.m. to 11 p.m. Location: Mcfarland Island, Boothbay Harbor, ME. 43°50′48″ N/069°37′36″ W (NAD 1983).
Connecticut:
6.2 | A night during the Last week in June | Name: Barnum Festival Fireworks. Sponsor: The Barnum Foundation. Time: 8 p.m. to 10 p.m. Location: Seaside Park—Bridgeport Harbor, Bridgeport, CT. 43°11′30″ N/072°00′30″ W (NAD 1983).
Massachusetts:
6.3 | Thursday prior to July 4th | Name: Boston Harborfest Fireworks. Sponsor: Harborfest Committee. Time: 9:30 p.m. to 10.30 p.m. Location: Just Off Coast Guard Base, Boston Harbor, MA 42°22′53″ N/71°02′56″ W (NAD 1983).
July
Massachusetts:
7.1 | Thursday prior to July 4th | Name: Boston Harborfest Fireworks. Sponsor: Harborfest Committee. Time: 9:30 p.m. to 10:30 p.m. Location: Just Off Coast Guard Base, Boston Harbor, MA 42°22′53″ N/71°02′56″ W (NAD 1983).
Connecticut:
7.2 | A night during the First week in July (or Last week in June) | Name: American Legion Post 83 Fireworks. Sponsor: Town of Branford American Legion Post. Time: 9 p.m. to 10 p.m. Location: Branford Point, Branford, CT. 41°21′ N/072°05′20″ W (NAD 1983).
New York:
7.3 | A night during the First week in July | Name: Devon Yacht Club Fireworks. Sponsor: Devon Yacht Club, Amagansett, NY. Time: 9:30 p.m. to 10 p.m. Location: Devon Yacht Club, Amagansett, NY. 40°00′00″ N/072°06′12″ W (NAD 1983).
Maine:
7.4 | A night during the First two weeks in July | Name: Schooner Days Fireworks. Sponsor: Town of Rockland Chamber of Commerce. Time: 8 p.m. to 10 p.m. Location: Rockland Harbor, Rockland, ME.
Connecticut:
7.5 | A night during the First two weeks in July | Name: Stamford Fireworks. Sponsor: City of Stamford. Time: 8 p.m. to 10 p.m. Location: Westcott Cove, Stamford, CT. 41°02′01″ N/73°30′3″ W (NAD 1983).
New York:
7.6 | A night during the First two weeks in July | Name: Town of Babylon Fireworks. Sponsor: Town of Babylon, NY. Time: 8 p.m. to 10 p.m. Location: Nezeras Island, Babylon, NY.
Massachusetts:
7.7 | Friday or Saturday prior to July 4th | Name: Hingham 4th of July Fireworks. Sponsor: Town of Hingham, MA. Time: 8 p.m. to 10 p.m. Location: Hingham Harbor, Hingham, MA. 42°15′30″ N/70°53′2″ W (NAD 1983).
Massachusetts:
7.8 | Friday or Saturday prior to July 4th | Name: Weymouth 4th of July Fireworks. Sponsor: Town of Weymouth Harbormaster. Time: 8:30 p.m. to 10:45 p.m. Location: Weymouth Fore River, Weymouth, MA. 42°15′30″ N/70°56′6″ W (NAD 1983).
Vermont:
7.9 | July 3rd | Name: Burlington Fireworks Display. Sponsor: City of Burlington, VT. Time: 8:30 p.m. to 11 p.m. Location: Lake Champlain, Burlington Bay, VT. A barge beside the Burlington Bay Breakwater. 44°28′30.5″ N/073°13′32″ W (NAD 1983).
Massachusetts:
7.10 | July 3rd | Name: Gloucester Fireworks. Sponsor: Gloucester Chamber of Commerce. Time: 8 p.m. to 10 p.m. Location: Gloucester Harbor, Stage Fort Park, Gloucester, MA.
Connecticut:
7.11 | July 3rd | Name: Summer Music Fireworks. Sponsor: Summer Music, Inc. Time: 8 p.m. to 10 p.m. Location: Off of Harkness Park, Long Island Sound, Waterford, CT. 41°18′00″ N/072°06′42″ W.
New York:
7.12 | July 3rd | Name: Salute to Veterans. Sponsor: Town of North Hempstead, NY Time: 9 p.m. to 10 p.m. Location: Hempstead, NY. Point Lookout 40°35′34″ N/073°35′24″ W (NAD 1983).
Maine:
7.13 | July 4th (Rain date: July 5th) | Name: Bangor Fireworks. Sponsor: Bangor 4th of July Corporation. Time: 9:30 p.m. to 10 p.m. Location: Bangor/Brewer waterfront, ME. 44°47′6″ N/068°11′8″ W (NAD 1983).
Maine:
7.14 | July 4th | Name: Bar Harbor Fireworks. Sponsor: Bar Harbor Chamber of Commerce. Time: 8:30 p.m. to 9:30 p.m. Location: Bar Harbor/Bar Island, ME. 44°23′6″ N/068°11′8″ W (NAD 1983).
Maine:
7.15 | July 4th | Name: Stewart′s 4th of July Fireworks Display. Sponsor: W.P. Stewart. Time: 9 p.m. to 9:30 p.m. Location: Somes Sound, Northeast Harbor, ME. 44°18′3″ N/068°18′2″ W (NAD 1983).
Maine:
7.16 | July 4th | Name: Walsh′s Fireworks. Sponsor: Mr. Patrick Walsh. Time: 8:30 p.m. to 9:30 p.m. Location: Union River, Bay, ME. 44°23′5″ N/068°27′2″ W (NAD 1983).
Massachusetts:
7.17 | July 4th | Name: Town of Barnstable Fireworks. Sponsor: Town of Barnstable. Time: 8 p.m. to 10 p.m. Location: Dunbar Point/Kalmus Beach, Barnstable, MA. 41°38′30″ N/070°16′ W (NAD 1983).
Massachusetts:
7.18 | July 4th | Name: Beverly Farms Fireworks. Sponsor: Farms-Pride 4th of July Committee, Inc. Time: 8 p.m. to 10 p.m. Location: West Beach, Manchester Bay, Beverly Farms, MA. 42°33′51″ N/070°48′29″ W (NAD 1983).
Massachusetts:
7.19 | July 4th | Name: Edgartown Fireworks. Sponsor: Edgartown Firefighters Association. Time: 9 p.m. to 10 p.m. Location: Edgartown Harbor, Edgartown, MA. 41°23′25″ N/070°29′45″ W (NAD 1983).
Massachusetts:
7.20 | July 4th | Name: Falmouth Fireworks. Sponsor: Falmouth Fireworks Committee Time: 9 p.m. to 10 p.m. Location: Falmouth Harbor, .25 NM east of buoy #16, Falmouth, MA. 41°−23′12″ N/070°29′45″ W (NAD 1983).
Massachusetts:
7.21 | July 4th | Name: Marion Fireworks. Sponsor: Town of Marion Harbormaster. Time: 8 p.m. to 10 p.m. Location: Silver Shell Beach, Marion, MA. 41°45′30″ N/070°45′24″ W (NAD 1983).
Massachusetts:
7.22 | July 4th | Name: City of New Bedford Fireworks. Sponsor: City of New Bedford. Time: 9 p.m. to 10:30 p.m. Location: New Bedford Harbor, New Bedford, MA. 41°41′ N/070°40′ W (NAD 1983).
Massachusetts:
7.23 | July 4th | Name: Onset Fireworks. Sponsor: Town of Wareham, MA. Time: 9 p.m. to 10 p.m. Location: Onset Harbor, Onset, MA. 41°38′ N/071°55′ W (NAD 1983).
Massachusetts:
7.24 | July 4th | Name: Plymouth Fireworks Display. Sponsor: July Four Plymouth Inc. Time: 8 p.m. to 10 p.m. Location: Plymouth Harbor, Plymouth, MA. 41°57′20″ N/070°38′20″ W (NAD 1983).
Massachusetts:
7.25 | July 4th | Name: Lewis Bay Fireworks. Sponsor: Town of Yarmouth, MA. Time: 9:30 p.m. to 10 p.m. Location: Great Island, Lewis Bay. 41°38′30″ N/071°17′06″ W (NAD 1983).
Rhode Island:
7.26 | July 4th | Name: Bristol 4th of July Fireworks. Sponsor: Bristol 4th of July Committee. Time: 9:30 p.m. to 10 p.m. Location: Bristol Harbor, Bristol, RI. 41°39′54″ N/071°20′18″ W (NAD 1983).
Rhode Island:
7.27 | July 4th | Name: City of Newport Fireworks. Sponsor: City of Newport Time: 9:15 p.m. to 10 p.m Location: 41°28′48″ N/071°20′18″ W (NAD 1983).
Rhode Island:
7.28 | July 4th | Name: Oyster Harbor Club Fourth of July Festival. Sponsor: Oyster Harbor Club, Inc. Time: 6 p.m. to 10 p.m. Location: Tim's Cove, North Bay, Osterville, RI. 41°37′30″ N/070°23′21″ W (NAD 1983).
Rhode Island:
7.29 | July 4th | Name: Slade Farms Fireworks. Sponsor: Slade Farm, Somerset, RI. Time: 9 p.m. to 11 p.m. Location: 41°43′36″ N/071°09′18″ W (NAD 1983).
Connecticut:
7.30 | July 4th | Name: Fairfield Aerial Fireworks. Sponsor: Fairfield Park Commission. Time: 8 p.m. to 10 p.m. Location: Jennings Beach, Long Island Sound, Fairfield, CT. 41°08′22″ N/073°14′02″ W.
Connecticut:
7.31 | July 4th | Name: Subfest Fireworks. Sponsor: U.S. Naval Submarine Base. Time: 8 p.m. to 10 p.m. Location: Thames River, Groton, CT.
Connecticut:
7.32 | July 4th | Name: Hartford Riverfest. Sponsor: July 4th Riverfest, Inc. Time: 8 p.m. to 10 p.m. Location: Connecticut River, Hartford, CT.
Connecticut:
7.33 | July 4th | Name: Middletown Fireworks. Sponsor: City of Middletown. Time: 8 p.m. to 10 p.m. Location: Connecticut River, Middletown Harbor, Middletown, CT. 41°33′79″ N/073°38′83″ W (NAD 1983).
Connecticut:
7.34 | July 4th | Name: Old Lyme Fireworks. Sponsor: Mr. James R. Rice. Time: 8 p.m. to 10 p.m. Location: Sound View Beach, Long Island Sound, Old Lyme, CT.
New York:
7.35 | July 4th | Name: Bayville Crescent Club Fireworks. Sponsor: Bayville Crescent Club, Bayville, NY. Time: 8 p.m. to 10 p.m. Location: Cooper Bluff, Cove Neck, NY.
New York:
7.36 | July 4th | Name: Montauk Independence Day. Sponsor: Montauk Chamber of Commerce. Time: 8 p.m. to 10 p.m. Location: Montauk Town Beach, Montauk, NY.
New York:
7.37 | July 4th | Name: Jones Beach State Park Fireworks. Sponsor: Long Island State Park Administration Headquarters. Time: 9 p.m. to 10:15 p.m. Location: Fishing Pier, Jones Beach State Park, Wantagh, NY. 40°35′7″ N/073°30′6″ W (NAD 1983).
New York:
7.38 | July 4th | Name: Dolan Family Fireworks. Sponsor: Mr. Charles F. Dolan. Time: 8 p.m. to 10 p.m. Location: Cove Point, Oyster Bay, NY.
Massachusetts
7.39 | July 4th | Name: Wellfleet Fireworks. Sponsor: Wellfleet Fireworks Committee. Time: 8 p.m. to 11 p.m. Location: Indian Neck Jetty, Wellfleet, MA. 41°55′24″ N/070°02′06″ W (NAD 1983).
Connecticut:
7.40 | Weekend following July 4th | Name: Thames River Fireworks. Sponsor: Town of Groton. Time: 8 p.m. to 10 p.m. Location: Thames River, off Electric Boat, Groton, CT.
New York:
7.41 | A night during the Second or Third weekend in July | Name: Boys Harbor Fireworks Extravaganza. Sponsor: Boys Harbor Inc. Time: 9 p.m. to 10 p.m. Location: Three Mile Harbor, East Hampton, NY. 41°15′ N/070°11′91″ W (NAD 1983).
Maine:
7.42 | Third Saturday in July | Name: Belfast Fireworks. Sponsor: Belfast Bay Festival Committee. Time: 8 p.m. to 10 p.m. Location: Belfast Bay, ME.
August
Connecticut:
8.1 | A night during the First week of August | Name: Summer Music Fireworks. Sponsor: Summer Music Inc. Time: 8 p.m. to 10 p.m. Location: Niantic River, Harkness Park, Waterford, CT.
Massachusetts:
8.2 | A night during the First weekend in August | Name: Fall River Celebrates America Fireworks. Sponsor: Fall River Chamber of Commerce. Time: 9:15 p.m. to 10 p.m. Location: Taunton River, vicinity of buoy #17, Fall River, MA 41°43′4″ N/071°09′48″ W (NAD 1983).
Connecticut:
8.3 | A night during the First two weeks in August | Name: Hartford Riverfront Regatta. Sponsor: Riverfront Recapture Inc. Time: 8 p.m. to 10 p.m. Location: Connecticut River, Hartford, CT.
Connecticut:
8.4 | A night during the Third week in August | Name: Summer Music Fireworks. Sponsor: Summer Music Inc. Time: 8 p.m. to 10 p.m. Location: Niantic River, Harkness Park, Waterford, CT.
Massachusetts:
8.5 | Last weekend in August | Name: Oaks Bluff Fireworks. Sponsor: Oaks Bluff Fireman′s Civic Association. Time: 8 p.m. to 10 p.m. Location: Oaks Bluff Beach, Oaks Bluff, MA.
Connecticut:
8.6 | Last Sunday in August | Name: Norwich Harbor Day Fireworks. Sponsor: Harbor Day Committee. Time: 8 p.m. to 10 p.m. Location: Norwich Harbor, off American, Wharf Marina, Norwich, CT.
Massachusetts:
8.7 | A night during Labor day weekend | Name: Gloucester Fireworks. Sponsor: Gloucester Chamber of Commerce. Time: 8 p.m. to 10 p.m. Location: Gloucester Harbor, Stage Fort, Gloucester, MA.
Maine:
8.8 | A night during Labor day weekend | Name: Camden Fireworks Display. Sponsor: Town of Camden Chamber of Commerce. Time: 8 p.m. to 10 p.m. Location: Camden Harbor, Camden, ME.
September
Massachusetts:
9.1 | A night during Labor day weekend | Name: Gloucester Fireworks. Sponsor: Gloucester Chamber of Commerce. Time: 8 p.m. to 10 p.m. Location: Gloucester Harbor, Stage Fort Park, Gloucester, MA.
Maine:
9.2 | A night during Labor day weekend | Name: Camden Fireworks Display. Sponsor: Town of Camden Chamber of Commerce. Time: 8 p.m. to 10 p.m. Location: Camden Harbor, Camden, ME.
Connecticut:
9.3 | A night during the weekend following Labor day | Name: Taste of Italy. Sponsor: Italian Heritage Committee. Time: 8 p.m. to 10 p.m. Location: Norwich Harbor, off Norwich Marina, Norwich, CT. 41°31′20″ N/073°04′83″ W (NAD 1983).
Rhode Island:
9.4 | A night during the First weekend in September | Name: Newport Salute to Summer. Sponsor: Naval Education and Training Center. Time: 8:30 p.m. to 10 p.m. Location: Narragansett Bay, East Passage, off Coasters Harbor Island, Newport, RI. 41°25′ N/071°20′ W (NAD 1983).
Connecticut:
9.5 | First or Second Saturday in September | Name: Norwalk Oyster Festival Fireworks. Sponsor: Norwalk Seaport Association. Time: 8 p.m. to 10 p.m. Location: Norwalk Harbor, Norwalk, CT.
New York:
9.6 | A night during the Last two weekends in September | Name: Cow Harbor Day Fireworks. Sponsor: Village of Northport Harbor. Time: 8 p.m. to 10 p.m. Location: Sand Pit, Northport Harbor, Northport, NY.
October
Massachusetts:
10.1 | A night during the Second weekend of October | Name: Yarmouth Seaside Festival Fireworks. Sponsor: Yarmouth Seaside Festival. Time: 8 p.m. to 9 p.m. Location: Seagull Beach, W. Yarmouth, MA 41°38′06″ N/070°13′ 13″ W (NAD 1983).
December
Massachusetts:
12.1 | December 31st | Name: First Night Fireworks. Sponsor: First Night Inc. Time: 11:45 p.m. to 12:30 a.m. Location: Center of Boston Inner Harbor, Boston, MA 42°21′42.4″ N/071°02′36.5″ W (NAD 1983).
Massachusetts:
12.2 | December 31st | Name: First Night Martha′s Vineyard. Sponsor: Town of Martha′s Vineyard Chamber of Commerce. Time: 10 p.m. to 12:30 a.m. Location: Vineyard Haven Harbor, Martha′s Vineyard, MA 41°27′6″ N/070°35′8″ W (NAD 1983).
Massachusetts:
12.3 | December 31st | Name: City of New Bedford First Night. Sponsor: City of New Bedford. Time: 11:45 p.m. to 12:30 a.m. Location: New Bedford Harbor, New Bedford, MA 41°38′.2″ N/070°55′0″ W (NAD 1983).
Connecticut:
12.4 | December 31st | Name: First night Mystic. Sponsor: Mystic Community Center. Time: 11:45 p.m. to 12:30 a.m. Location: Mystic River, Mystic, CT.
Rhode Island:
12.5 | December 31st | Name: Newport Fireworks. Sponsor: Newport Cultural Commission. Time: 11 p.m. to 1 a.m. Location: 41°28′48″ N/071°20′18″ W (NAD 1983).

* * * * *

PART 101—MARITIME SECURITY: GENERAL

22. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

PART 101—[AMENDED]

23. In part 101, remove the office symbol “G-MP” wherever it appears and add, in its place, the office symbol “CG-54”.

§ 101.105 [Amended]

24. In § 101.105, in definition of “Area Maritime Security Committee”, remove the phrase “09-02” and add, in its place, the phrase “09-02 change 2”.

§ 101.305 [Amended]

25. In § 101.305(a), remove the phrase “direct telephone: 202-372-2428; Fax: 202-372-2920, TDD: 202-267-4477, or use the NRC Web Reporting function located on the NRC Web Site: http://www.nrc.uscg.mil/” and add, in its place, the phrase “direct telephone 202-267-2675, or TDD 202-267-4477”.

§ 101.415 [Amended]

26. In § 101.415(b), remove the citation “46 U.S.C. 70117” and add, in its place, the citation “46 U.S.C. 70119”.

§ 101.420 [Amended]

27. In § 101.420(b), remove the office symbol “G-MOC” and add, in its place, the office symbol “CG-543”.

§ 101.510 [Amended]

28. In § 101.510—

a. In paragraph (b)(1), remove the phrase “9-02” and add, in its place, the phrase “09-02 change 2”; and

b. In paragraph (b)(2), remove the phrase “10-02” and add, in its place, the phrase “10-02 change 1”; and

c. In paragraph (b)(3), remove the phrase “11-02” and add, in its place, the phrase “11-02 change 1”.

PART 104—MARITIME SECURITY: VESSELS

29. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

30. In § 104.106, add a new paragraph (c) to read as follows:

§ 104.106 Passenger access area.

* * * * *

(c) Passenger access areas may not include any areas defined as restricted areas in the VSP.

§ 104.130 [Amended]

31. In § 104.130, remove the office symbol “G-MP” wherever it appears and add, in its place, the office symbol “CG-54”.

§ 104.205 [Amended]

32. In § 104.205—

a. In paragraph (b)(1), remove the phone numbers “202-372-2428; Fax: 202-372-2920” and add, in its place, the phone numbers “202-267-2675; Fax: 202-267-1322”; and

b. In paragraph (b)(3), remove the office symbol “G-MP” and add, in its place, the office symbol “CG-54”.

§ 104.292 [Amended]

33. In § 104.292—

a. In paragraph (b), remove the reference “§ 104.265(e)(1), (e)(3), and (e)(8)” and add, in its place, the reference “§ 104.265(f)(2), (f)(4), and (f)(9)”;

b. In paragraph (e)(3), remove the reference “§ 104.265(e)(3) and (f)(1)” and add, in its place, the reference “§ 104.265(f)(4) and (g)(1)”; and

c. In paragraph (f), remove the reference “§ 104.265(e)(3) and § 104.265(g)(1)” and add, in its place, the reference “§ 104.265(f)(4) and (h)(1)”.

PART 105—MARITIME SECURITY: FACILITIES

34. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.130 [Amended]

35. In § 105.130, remove the office symbol “G-MP” wherever it appears and add, in its place, the office symbol “CG-54”.

PART 110—ANCHORAGE REGULATIONS

36. The authority citation for part 110 continues to read as follows:

Authority: 33 U.S.C. 471, 1221 through 1236, 2030, 2035, and 2071; 33 CFR 1.05-1; Department of Homeland Security Delegation No. 0170.1.

37. Add a new § 110.59 to read as follows:

§ 110.59 Eastern Long Island, NY.

(a) Huntington Harbor. Beginning on the shoreline at latitude 40°54′19.5″, longitude 73°26′07.9″; thence to latitude 40°54′19.5″, longitude 73°26′02.4″; thence along the eastern shoreline to the Mill Dam Road Bridge; thence along the downstream side of the bridge to the westerly side of Huntington Harbor; thence along the western shoreline to the point of beginning.

(b) Centerport Harbor. Beginning at the shoreline at latitude 40°54′00″ , longitude 73°22′55.3″; thence to latitude 40°54′03.8″, longitude 73°22′52.1″; thence along the eastern shoreline to the Mill Dam Bridge; thence along the downstream side of the bridge to the westerly side of Centerport Harbor; thence along the western shoreline to the point of beginning.

(c) Northport Harbor. Beginning on the shoreline at latitude 40°54′25″ , longitude 73°22′05″ ; thence to latitude 40°54′37.5″, longitude 73°21′32.9″; thence along the eastern shoreline to latitude 40°53′33.1″, longitude 72°21′28.2″; thence to latitude 40°53′25.8″, longitude 73°21′37.7″; thence along the shoreline to the point of beginning.

Note: The areas designated by paragraphs (a), (b), and (c) of this section are principally for vessels used for a recreational purpose. A vessel shall be anchored so that no part of the vessel comes within 50 feet of the marked channel. A temporary float or buoy for marking the location of the anchor of a vessel at anchor may be used. Fixed mooring piles or stakes are prohibited.

(d) Cold Spring Harbor. That portion of the waters of Cold Spring Harbor easterly of a line ranging from the cupola in the extreme inner harbor through Cold Spring Harbor Light; southerly of a line ranging from the southernmost point of an L-shaped pier off Wawepex Grove through the Clock Tower at Laurelton and northerly of a line ranging from the outer end of the Socony Mobil Oil Company's pier at Cold Spring Harbor through the Clock Tower at Laurelton, with the exception of an area within a 300-foot radius of the outer end of the Socony Mobil Oil Company's pier.

(e) Oyster Bay Harbor, New York. That portion of Oyster Bay Harbor adjacent to the easterly side of Centre Island, westerly of a line on range with Cold Spring Harbor Light and the Stone House on the end of Plum Point, Centre Island.

(f) Harbor of Oyster Bay, Oyster Bay, New York. The water area north of the town of Oyster Bay enclosed by a line beginning on the shoreline at latitude 40°52′35.5″ N., longitude 73°32′17″ W.; thence to latitude 40°52′59.5″ N., longitude 73°32′18″ W.; thence to latitude 40°53′00″ N., longitude 73°30′53″ W.; thence to latitude 40°52′39″ N., longitude 73°30′54″ W.; thence to the shoreline at latitude 40°52′25″ N., longitude 73°31′18″ W.; thence following the shoreline to the point of beginning.

(g) Harbor of Oyster Bay, New York, Moses Point to Brickyard Point. That portion of the waters of the Harbor of Oyster Bay enclosed by a line beginning at Moses Point on Centre Island at latitude 40°53′11″ N., longitude 73°31′14″ W.; thence to latitude 40°53′02″ N., longitude 73°31′22″ W.; thence to latitude 40°53′02″ N., longitude 73°32′00″ W.; thence to Brickyard Point on Centre Island at 40°53′06″ N., longitude 73°32′00″ W.; thence following the shoreline to the point of beginning.

Note: The anchoring of vessels and placement of temporary moorings in anchorage areas described in paragraph (g) of this section will be under the jurisdiction of the local Harbormaster appointed in accordance with Article 12 of the Village Ordinance of the Village of Centre Island, New York.

(h) Coecles Harbor at Shelter Island, New York. That portion of Coecles Harbor bounded on the North by a line drawn between the northernmost point of land at Sungic Point and latitude 41°04′09″ North, longitude 72°17′54″ West, thence eastward along the shoreline to the point of origin.

(i) West Neck Harbor at Shelter Island, New York. That portion of West Neck Harbor bounded on the North by a line drawn between latitude 41°02′48″ North, longitude 72°20′27″ West and a point on Shell Beach located at latitude 41°02′29″ North, longitude 72°20′59″ West; thence eastward along the shoreline to the point of origin.

38. Revise § 110.60 to read as follows:

§ 110.60 Captain of the Port, New York.

(a) Western Long Island Sound. (1) Glen Island. All waters surrounding Glen Island bound by the following points: 40°52′53.1″ N, 073°46′58.9″ W; thence to 40°52′46.6″ N, 073°47′02.7″ W; thence to a line drawn from 40°53′23.3″ N 073°47′01.5″ W to 40°53′19.0″ N 073°46′56.2″ W, excluding all waters within 25 feet of the 50-foot channel west and south of Glen Island.

(2) Echo Bay. All waters northwest of a line drawn from 40°54′10.0″ N, 073°45′52.9″ W to 40°54′25.0″ N, 073°45′38.4″ W.

Note: An ordinance of the Town of New Rochelle NY requires a permit from the New Rochelle Harbor Master or the New Rochelle Superintendent of Bureau of Marinas, Docks and Harbors before any mooring is placed in this special anchorage area.

(3) Glen Island, East. All waters east of Glen Island, bound by the following points: 40°53′01.4″ N, 073°46′51.4″ W; thence to 40°53′03.1″ N, 073°46′44.4″ W; thence to 40°53′06.2″ N, 073°46′38.0″ W; thence to 40°53′15.0″ N, 073°46′44.0″ W; thence along the shoreline to the point of origin.

(4) City Island, Eastern Shore. All waters bound by the following points: 40°50′12.0″ N, 073°46′57.3″ W; thence to 40°50′31.9″ N, 073°46′18.3″ W; thence to 40°51′17.0″ N, 073°46′49.9″ W; thence to 40°51′19.8″ N, 073°46′51.3″ W; thence to 40°51′47.0″ N, 073°47′02.5″ W; thence to 40°51′28.5″ N, 073°47′31.7″ W; thence to 40°51′25.1″ N, 073°47′29.9″ W; thence along the shoreline to the point of origin, excluding the Cable and Pipeline Area between City and Hart Islands.

(5) City Island, Western Shore. All waters bound by the following points: 40°50′11.6″ N, 073°46′58.4″ W; thence to 40°50′02.5″ N, 073°47′23.3″ W; thence to 40°50′43.7″ N, 073°47′56.0″ W; thence to 40°51′15.9″ N, 073°47′36.0″ W; thence to 40°51′15.9″ N, 073°47′28.6″ W; thence along the shoreline to the point of origin.

(6) Eastchester Bay, Western Shore. All waters shoreward of a line connecting the following points: 40°49′31.3″ N, 073°48′26.3″ W; thence to 40°50′56.4″ N, 073°48′49.2″ W; thence to 40°50′55.3″ N, 073°48′55.4″ W; thence along the shoreline to the point of origin.

(7) Eastchester Bay, Locust Point. All waters west of a line drawn from 40°48′56.3″ N, 073°47′56.2″ W to 40°48′34.4″ N, 073°47′56.2″ W.

(8) Manhasset Bay, Plum Point. All waters bound by the following points: 40°50′02.9″ N, 073°43′37.3″ W; thence to 40°49′54.0″ N, 073°43′14.9″ W; thence to 40°50′06.6″ N, 073°42′51.0″ W; thence to 40°50′18.6″ N, 073°42′51.0″ W; thence along the shoreline to the point of origin; excluding the seaplane restricted area described in § 162.

(9) Manhasset Bay, Toms Point. All waters bound by the following points: 40°50′20.6″ N, 073°42′49.5″ W; thence to 40°50′05.3″ N, 073°42′49.4″ W; thence to 40°49′58.6″ N, 073°42′39.0″ W; thence to 40°49′48.9″ N, 073°42′55.6″ W; thence to 40°49′49.3″ N, 073°42′20.4″ W; thence to 40°50′02.5″ N, 073°42′14.2″ W; thence to 40°50′11.8″ N, 073°42′15.4″ W; thence along the shoreline to the point of origin.

(10) Manhasset Bay, at Port Washington. All waters bound by the following points: 40°49′44.9″ N, 073°42′11.3″ W; thence to 40°49′44.3″ N, 073°43′03.2″ W; thence to 40°49′06.8″ N, 073°42′46.6″ W; thence to 40°49′07.0″ N, 073°42′16.2″ W; thence along the shoreline to the point of origin.

(11) Manhasset Bay, West Shore. All waters bound by the following points: 40°49′24.6″ N, 073°43′40.2″ W; thence to 40°49′33.2″ N, 073°43′28.3″ W; thence to 40°49′43.8″ N, 073°43′53.5″ W; thence to 40°49′39.2″ N, 073°43′57.9″ W; thence along the shoreline to the point of origin.

(12) Manhasset Bay, Plandome. All waters bound by the following points: 40°48′41.6″ N, 073°42.31.7″ W; thence to 40°48′43.6″ N, 073°42′42.5″ W; thence to 40°48′29.0″ N, 073°42′44.4″ W; thence to 40°48′27.6″ N, 073°42′44.4″ W; thence along the shoreline to the point of origin.

(13) Elm Point. All waters bound by the following points: 40°49′01.0″ N, 073°45′41.9″ W; thence to 40°49′04.4″ N, 073°45′45.3″ W; thence to 40°49′13.8″ N, 073°45′38.7″ W; thence to 40°49′18.9″ N, 073°45′28.3″ W; thence to 40°49′08.9″ N, 073°45′17.5″ W; thence along the shoreline to the point of origin.

Note: Temporary floats or buoys for marking anchors in place are allowed. Fixed mooring piles or stakes are prohibited. An ordinance of the village of Kings Point regulates mooring and anchoring in the area which includes this special anchorage area.

(14) Little Neck Bay. All waters east of a line drawn from 40°47′39.4″ N, 073°46.27.1″ W; thence to 40°48′36.6″ N, 073°45′58.5″ W; thence to 40°48′36.4″ N, 073°45.48.4″ W; thence along the shoreline to the point of origin.

(15) Hempstead Harbor, Mosquito Neck. All waters bound by the following points: 40°51′43.0″ N, 073°39′37.1″ W; thence to 40°51′09.4″ N, 073°39′32.4″ W; thence to 40°51′14.6″ N, 073°39′08.9″ W; thence to 40°51′20.0″ N, 073°38′56.1″ W; thence along the shoreline and breakwater to the point of origin.

(16) Hempstead Harbor, Sea Cliff. All waters bound by the following points: 40°51′16.7″ N, 073°38′51.9″ W; thence to 40°51′12.9″ N, 073°39′07.2″ W; thence to 40°51′03.6″ N, 073°39′31.6″ W; thence to 40°50′24.7″ N, 073°39′26.4″ W; thence along the shoreline to the point of origin.

(b) East River and Flushing Bay. (l) Flushing Bay, College Point North. All waters bound by the following points: 40°47′37.5″ N, 073°51′13.4″ W; thence to 40°47′10.3″ N, 073°51′34.0″ W; thence to 40°47′09.1″ N, 073°51′32.6″ W; thence along the shoreline to the point of origin.

(2) Flushing Bay, College Point South. All waters bound by the following points: 40°47′01.8″ N, 073°51′29.2″ W; thence to 40°47′01.8″ N, 073°51′33.2″ W; thence to 40°46′31.7″ N, 073°51′15.9″ W; thence to 40°46′46.1″ N, 073°50′58.6″ W; thence along the shoreline to the point of origin.

(3) Flushing Bay, Cape Ruth. All waters bound by the following points: 40°46′39.9″ N, 073°50′56.1″ W; thence to 40°46′29.2″ N, 073°51′14.3″ W; thence to 40°46′12.3″ N, 073°51′04.3″ W; thence to 40°46′15.2″ N, 073°50′55.2″ W; thence along the shoreline to the point of origin.

(4) Flushing Bay, Southeast Area. All waters south of a line drawn from 40°45′41.4″ N, 073°50′57.2″ W to 40°45′51.7″ N, 073°50′34.2″ W.

(5) Flushing Bay, Southwest Area. All waters bound by the following points: 40°45′36.7″ N, 073°51′16.3″ W; thence to 40°45′48.5″ N, 073°50′58.4″ W; thence to 40°45′51.3″ N, 073°50′59.2″ W; thence to 40°45′49.4″ N, 073°51′07.5″ W; thence to 40°45′58.7″ N, 073°51′13.4″ W; thence to 40°46′02.1″ N, 073°50′20.1″ W; thence to 40°45′54.8″ N, 073°51′28.7″ W; thence to 40°45′46.2″ N, 073°51′35.3″ W; then northward along the shoreline and breakwater to the point of origin.

(6) Flushing Bay, West Area. All waters bound by the following points: 40°46′51.1″ N, 073°52′07.3″ W; thence to 40°47′11.2″ N, 073°51′47.1″ W; thence to 40°47′01.9″ N, 073°51′39.6″ W; thence to 40°46′28.3″ N, 073°51′20.0″ W; thence to the point of origin.

Note: The anchoring of vessels and placing of temporary moorings in anchorage areas described in paragraphs (b)(5) and (b)(6) of this section will be under the jurisdiction, and at the discretion of the local Harbor Master appointed by the City of New York.

(7) Bowery Bay. All waters bound by the following points: 40°46′58.4″ N, 073°53′44.1″ W; thence to 40°47′03.3″ N, 073°53′37.4″ W; thence to 40°47′00.3″ N, 073°53′29.3″ W; thence to 40°46′57.0″ N, 073°53′29.8″ W; thence to 40°46′59.9″ N, 073°53′34.2″ W; thence to 40°46′58.5″ N, 073°53′35.8″ W; thence to 40°46′57.1″ N, 073°53′33.8″ W; thence to 40°46′55.9″ N, 073°53′35.2″ W; thence to 40°46′58.2″ N, 073°53′39.0″ W; thence to 40°46′56.1″ N, 073°53′41.4″ W; thence along the shoreline and pier to the point of origin.

(c) Hudson River. (1) Yonkers, Greystone Station. All waters bound by the following points: 40°58′19.8″ N, 073°53′22.8″ W; thence to 40°58′21.1″ N, 073°53′28.7″ W; thence to 40°58′42.7″ N, 073°53′20.3″ W; thence to 40°58′41.8″ N, 073°53′15.4″ W; thence along the shoreline to the point of origin.

(2) Yonkers, North Glenwood. All waters bound by the following points: 40°57′26.8″ N, 073°53′46.6″ W; thence to 40°57′27.3″ N, 073°53′48.8″ W; thence to 40°57′55.3″ N, 073°53′34.4″ W; thence to 40°57′53.6″ N, 073°53′28.6″ W; thence along the shoreline to the point of origin.

(3) Nyack. That portion of the Hudson River bound by the following points: 41°06′06.8″ N, 073°54′55.5″ W; thence to 41°06′06.8″ N, 073°54′18.0″ W; thence to 41°05′00.0″ N, 073°54′18.0″ W; thence to 41°05′00.0″ N, 073°55′02.2″ W; thence along the shoreline to the point of origin (NAD 1983), excluding a fairway in the charted cable area that is marked with buoys.

Note: The area is principally for use by yachts and other recreational craft. A mooring buoy is permitted.

(4) Manhattan, Fort Washington Point. All waters bound by the following points: 40°51′08.1″ N, 073°56′36.7″ W; thence to 40°51′09.4″ N, 073°56′40.9″ W; thence to 40°52′08.3″ N, 073°55′56.6″ W; thence along the shoreline to the point of origin.

(5) Yonkers, Main Street. All waters bound by the following points 40°56′15.4″ N, 073°54′11.2″ W; thence to 40°56′16.7″ N, 073°54′20.2″ W; thence to 40°56′08.9″ N, 073°54′22.6″ W; thence to 40°56′07.9″ N, 073°54′16.9″ W; thence to 40°56′07.0″ N, 073°54′17.3″ W.

(6) Yonkers, JFK Marina. All waters bound by the following points: 40°57′28.5″ N, 073°53′46.0″ W; thence to 40°57′30.5″ N, 073°53′56.8″ W; thence to 40°57′07.5″ N, 073°54′06.2″ W; thence to 40°57′08.0″ N, 073°53′58.5″ W; thence along the shoreline to the point of origin.

Note: The areas designated by paragraphs (c)(5) and (c)(6) are limited to vessels no greater than 20 meters in length and is primarily for use by recreational craft on a seasonal or transient basis. These regulations do not prohibit the placement of moorings within the anchorage area, but requests for the placement of moorings should be directed to the local government to ensure compliance with local and state laws. All moorings shall be so placed that no vessel, when anchored, will at any time extend beyond the limits of the area. Fixed mooring piles or stakes are prohibited. Mariners are encouraged to contact the local harbormaster for any additional ordinances and to ensure compliance with additional applicable state and local laws.

(7) Hastings-on-Hudson. All waters bound by the following points: 40°59′56.0″ N, 073°53′05.4″ W; thence to 40°59′56.3″ N, 073°53′09.6″ W; thence to 41°00′05.1″ N, 073°53′09.2″ W; thence to 41°00′14.7″ N, 073°53′06.4″ W; thence to 41°00′14.5″ N, 073°53′00.5″ W; thence along the shoreline to the point of origin.

(8) Tarrytown. All waters bound by the following points: 41°04′21.0″ N, 073°52′03.4″ W; thence to 41°04′21.0″ N, 073°52′11.3″ W; thence to 41°04′13.6″ N, 073°52′11.0″ W; thence to 41°04′13.6″ N, 073°52′00.5″ W; thence along the shoreline to the point of origin.

(9) West Point. All waters west of a line drawn from 41°23′10.0″ N, 073°57′18.1″ W to 41°23′23.5″ N, 073°57′11.5″ W.

(10) Haverstraw. That portion of the Hudson River bound by the following points: 41°11′25.2″ N, 073°57′19.9″ W; thence to 41°11′34.2″ N, 073°57′00.8″ W; thence to 41°11′41.9″ N, 073°57′07.5″ W; thence to 41°11′31.8″ N, 073°57′26.5″ W; thence to 41°11′30.8″ N, 073°57′24.9″ W; thence to the point of origin.

(11) Cedar Hill. All waters bound by the following points: 42°32′33.1″ N, 073°45′33.1″ W; thence to 42°32′33.1″ N, 073°45′28.3″ W; thence to 42°32′49.2″ N, 073°45′26.6″ W; thence to 42°32′49.3″ N, 073°45′31.1″ W; thence along the shoreline to the point of origin.

(d) New York Harbor. (1) Newark Bay, Southeast. All waters bound by the following points: 40°39′27.9″ N, 074°08′07.1″ W; thence to 40°39′31.7″ N, 074°08′13.4″ W; thence to 40°39′31.4″ N, 074°08′24.6″ W; thence to 40°39′52.4″ N, 074°08′11.7″ W; thence to 40°39′47.8″ N, 074°07′59.4″ W; thence along the shoreline to the point of origin.

(2) Newark Bay, Southwest. All waters bound by the following points: 40°38′52.1″ N, 074°09′41.1″ W; thence to 40°38′51.6″ N, 074°10′18.2″ W; thence to 40°38′51.0″ N, 074°10′36.5″ W; thence to 40°39′16.8″ N, 074°09′56.3″ W; thence to 40°39′16.2″ N, 074°09′36.9″ W; thence to the point of origin, excluding therefrom the “Pipe Line Area”.

(3) Great Kills Harbor. All waters northeast of a line connecting the following points: 40°32′06.4″ N, 074°08′24.5″ W; thence to 40°32′06.9″ N, 074°08′25.8″ W; thence to 40°32′19.0″ N, 074°08′21.1″ W; thence to 40°32′28.1″ N, 074°08′24.3″ W; thence to 40°32′40.3″ N, 074°08′08.4″ W; thence to 40°32′45.2″ N, 074°08′11.4″ W; thence along the northern and eastern shoreline to the point of origin.

Note: The special anchorage area is principally for use by yachts and other recreational craft. A temporary float or buoy for marking the location of the anchor of a vessel at anchor may be used. Fixed mooring piles or stakes are prohibited. Vessels shall be anchored so that no part of the vessel comes within 50 feet of the marked channel.

(4) Jamaica Bay, Canarsie Beach. All waters bound by the following points: 40°37′22.0″ N, 073°53′43.5″ W; thence to 40°37′18.4″ N, 073°53′32.9″ W; thence to 40°37′37.6″ N, 073°53′06.5″ W; thence to 40°37′42.9″ N, 073°53′14.4″ W; thence along the shoreline to the point of origin.

(5) Jamaica Bay, East Broad Channel. All waters bound by the following points: 40°35′48.5″ N, 073°49′12.5″ W; thence to 40°35′50.2″ N, 073°49′04.7″ W; thence to 40°36′23.4″ N, 073°48′56.3″ W; thence along the shoreline to the point of origin.

Note: The area will be principally for use by yachts and other recreational craft. Temporary floats or buoys for marking anchors will be allowed.

(6) Sheepshead Bay, West. All waters bound by the following points: 40°35′00.0″ N, 073°56′54.8″ W; thence to 40°34′58.9″ N, 073°57′09.6″ W; thence to 40°34′56.6″ N, 073°57′09.1″ W; thence to 40°34′57.5″ N, 073°56′54.4″ W; thence to the point of origin.

(7) Sheepshead Bay, North. All waters bound by the following points: 40°34′58.5″ N, 073°56′00.5″ W; thence to 40°34′58.6″ N, 073°56′26.0″ W; thence to 40°34′56.6″ N, 073°56′26.8″ W; thence to 40°34′54.8″ N, 073°56′24.8″ W; thence to 40°34′55.4″ N, 073°56′10.1″ W; thence to 40°34′57.9″ N, 073°56′00.5″ W; thence to the point of origin.

(8) Sheepshead Bay, South. All waters bound by the following points: 40°34′54.2″ N, 073°56′01.8″ W; thence to 40°34′53.6″ N, 073°56′27.2″ W; thence to 40°34′55.8″ N, 073°56′43.6″ W; thence to 40°34′54.5″ N, 073°56′43.6″ W; thence to 40°34′52.0″ N, 073°56′34.0″ W; thence to 40°34′53.1″ N, 073°56′01.6″ W; thence to the point of origin.

(9) Lower Bay, Point Comfort. All waters bound by the following points: 40°27′18.5″ N, 074°08′24.5″ W; thence to 40°27′37.4″ N, 074°08′51.8″ W; thence to 40°27′51.4″ N, 074°08′31.9″ W; thence to 40°27′49.7″ N, 074°07′44.9″ W; thence to 40°27′15.3″ N, 074°07′45.7″ W; thence along the shoreline to the point of origin.

(10) Perth Amboy, NJ. All waters bound by the following points: 40°30′18.5″ N, 074°15′45.1″ W; thence to 40°30′16.6″ N, 074°15′37.8″ W; thence to 40°30′03.0″ N, 074°15′43.5″ W; thence to 40°29′36.4″ N, 074°16′07.9″ W; thence to 40°29′31.1″ N, 074°16′20.2″ W; thence to 40°29′47.1″ N, 074°16′48.8″ W; thence to 40°30′02.0″ N, 074°16′40.3″ W; thence along the shoreline to the point of origin.

(e) Datum. All positions are NAD 1983.

§ 110.155 [Amended]

39. In § 110.155—

a. Revise paragraph (h) to read as set out below; and

b. In paragraph (j)(1), remove “longitude 74°15′13″” and add, in its place, “longitude 74°15′30″”.

§ 110.155 Port of New York.

* * * * *

(h) Newark Bay. (1) Anchorage No. 34. All waters bound by the following points: 40°38′51.5″ N, 074°10′35.6″ W; thence to 40°39′20.2″ N, 074°09′50.8″ W; thence to 40°39′41.4″ N, 074°09′30.2″ W; thence to 40°39′29.6″ N, 074°08′58.0″ W; thence to 40°39′21.7″ N, 074°08′50.8″ W; thence to 40°39′08.0″ N, 074°08′58.9″ W; thence to 40°38′49.9″ N, 074°09′20.0″ W; thence to 40°38′53.5″ N, 074°09′37.1″ W; thence to 40°38′52.0″ N, 074°09′41.6″ W; thence to the point of origin (NAD 83).

(2) [Reserved]

(3) Anchorage No. 36. All waters bound by the following points: 40°41′13.1″ N, 074°08′06.1″ W; thence to 40°41′12.7″ N, 074°08′09.9″ W; thence to 40°40′51.0″ N, 074°08′29.7″ W; thence to 40°40′44.7″ N, 074°08′29.8″ W; thence to 40°40′34.0″ N, 074°08′12.0″ W; thence to 40°40′36.6″ N, 074°08′04.8″ W; thence to 40°40′54.5″ N, 074°07′56.5″ W; thence to 40°41′03.3″ N, 074°07′56.5″ W; thence to the point of origin (NAD 83).

(4) Anchorage No. 37. North of the Central Railroad of New Jersey bridge; east of a line ranging from a point 200 yards east of the east pier of the east lift span of the bridge to a point 200 yards east of the east end of the lift span of the Pennsylvania-Lehigh Valley Railroad bridge; and south of the latter bridge.

Note: A portion of this general anchorage is described as a special anchorage in § 110.60(q).

* * * * *

§ 110.245 [Amended]

40. In § 110.245 paragraph (b)(2), remove the phrase “Greater Antilles Section, U.S. Coast Guard Base, San Juan, Puerto Rico” and add, in its place, the phrase “Coast Guard Sector San Juan, Puerto Rico”.

§ 110.250 [Amended]

41. In § 110.250 paragraph (b)(9), remove the phrase “The U.S. Coast Guard Captain of the Port of St. Thomas” and add, in its place, the phrase “The Coast Guard Captain of the Port San Juan”.

PART 114—GENERAL

42. Revise the authority citation for part 114 to read as follows:

Authority: 33 U.S.C. 401, 406, 491, 494, 495, 499, 502, 511, 513, 514, 516, 517, 519, 521, 522, 523, 525, 528, 530, 533, and 535(c), (e), and (h); 14 U.S.C. 633; 49 U.S.C. 1655(g); Pub. L. 107-296, 116 Stat. 2135; 33 CFR 1.05-1 and 1.01-60, Department of Homeland Security Delegation Number 0170.1.

43. Revise § 114.01 to read as follows:

§ 114.01 Purpose.

(a) The purpose of the rules and regulations in this subchapter is to implement certain laws and set forth the requirements for:

(1) Locations and clearances of bridges and causeways over the navigable waters;

(2) Administration of the alteration of unreasonably obstructive bridges; and

(3) Regulation of drawbridge operation.

(b) The rules and regulations in this subchapter also describe the procedures and practices, including forms and instructions, which are applicable to the public subject to certain laws governing bridges and causeways over the navigable waters of the United States.

§ 114.50 [Amended]

44. In § 114.50, remove the phrase “Chief, Office of Bridge Administration” and add, in its place, the phrase “Administrator, Bridge Administration Program”.

PART 115—BRIDGE LOCATIONS AND CLEARANCES; ADMINISTRATIVE PROCEDURES

45. The authority citation for part 115 continues to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633; sec. g(6), 80 Stat. 941 (49 U.S.C. 1655(g)); 49 CFR 1.46(c).

§ 115.60 [Amended]

46. In § 115.60—

a. Remove the word “hearing” wherever it appears and add, in its place, the word “meeting”; and

b. Remove the word “hearings” wherever it appears and add, in its place, the word “meetings”.

PART 116—ALTERATION OF UNREASONABLY OBSTRUCTIVE BRIDGES

47. The authority citation for part 116 continues to read as follows:

Authority: 33 U.S.C. 401, 521; 49 U.S.C. 1655(g); 49 CFR 1.4, 1.46(c).

Part 116—[Amended]

48. In part 116—

a. Remove the word “hearing” wherever it appears and add, in its place, the word “meeting”; and

b. Remove the word “hearings” wherever it appears and add, in its place, the word “meetings”; and

c. Remove the phrase “Chief, Office of Bridge Administration” wherever it appears and add, in its place, the phrase “Administrator, Bridge Administration Program”.

§ 116.55 [Amended]

49. In § 116.55(b), remove the phrase “Chief's, Office of Bridge Administration” and add, in its place, the phrase “Administrator's, Bridge Administration Program”.

PART 117—DRAWBRIDGE OPERATION REGULATIONS

50. The authority citation for part 117 continues to read as follows:

Authority: 33 U.S.C. 499; 33 CFR 1.05-1; and Department of Homeland Security Delegation No. 0170.1.

§ 117.785 [Amended]

51. In § 117.785(c), remove the phrase “Stutson Street bridge” and add, in its place, the phrase “Colonel Patrick Henry O'Rorke Memorial Bridge”.

PART 118—BRIDGE LIGHTING AND OTHER SIGNALS

52. The authority citation for part 118 continues to read as follows:

Authority: 33 U.S.C. 494; 14 U.S.C. 85, 633; Department of Homeland Security Delegation No. 0170.1.

§ 118.3 [Amended]

53. In § 118.3 (b), remove the phrase “Office of Bridge Administration (G-OPT)” and add, in its place, the phrase “Administrator, Bridge Administration Program”.

PART 126—HANDLING OF DANGEROUS CARGO AT WATERFRONT FACILITIES

54. The authority citation for part 126 continues to read as follows:

Authority: 3 U.S.C. 1231; 49 CFR 1.46.

55. In § 126.3, revise the definition of “Dangerous Cargo” to read as follows:

§ 126.3 Definitions.

* * * * *

Dangerous cargo means all hazardous materials listed in 49 CFR parts 170 through 179, except those materials preceded by an “A” in the Hazardous Materials Table in 49 CFR 172.101, and all cargo listed in 46 CFR part 148.

* * * * *

PART 135—OFFSHORE OIL POLLUTION COMPENSATION FUND

56. The authority citation for part 135 continues to read as follows:

Authority: 33 U.S.C. 2701-2719; E.O. 12777, 56 FR 54757; Department of Homeland Security Delegation No. 0170.1, para. 2(80).

§ 135.305 [Amended]

57. In § 135.305(a)(1), remove the phrase “2100 Second Street, SW., Washington, DC 20593-0001, toll free telephone number 800-424-8802” and add, in its place, the phrase “Room 2111, 2100 Second Street, SW, Washington, DC 20593-0001, toll free telephone number: 800-424-8802, direct telephone: 202-267-2675, or Fax: 202-267-1322.”.

PART 151—VESSELS CARRYING OIL, NOXIOUS LIQUID SUBSTNCES GARBAGE, MUNICIPAL OR COMMERCIAL WASTE, AND BALLAST WATER

58. The authority citation for part 151 continues to read as follows:

Authority: 33 U.S.C. 1321, 1903, 1908; 46 U.S.C. 6101; Pub. L. 104-227 (110 Stat. 3034); E.O. 12,777, 3 CFR, 1991 Comp. p. 351; Department of Homeland Security Delegation No. 0170.1.

§ 151.05 [Amended]

59. In § 151.05, in paragraph (4) of the definition of “Oceangoing ship”, remove the number “2.05”, and add, in its place, the number “2.22”.

60. Amend § 151.06 by revising paragraphs (a)(8) and (a)(9) and adding paragraphs (a)(10) through (a)(12) to read as follows:

§ 151.06 Special areas.

(a) * * *

(8) The North West European waters mean the North Sea and its approaches, the Irish Sea and its approaches, the Celtic Sea, the English Channel and its approaches and part of the North East Atlantic immediately to the west of Ireland. The area is bounded by lines joining the following points:

48°27′ N on the French coast

48°27′ N; 006°25′ W

49°52′ N; 007°44′ W

50°30′ N; 012° W

56°30′ N; 012° W

62° N; 003° W

62°′ N on the Norwegian coast

57°44′.8 N on the Danish and Swedish coasts.

(9) The Oman area of the Arabian Sea means the sea enclosed by the following co-ordinates:

22°30′.00 N; 059°48′.00 E

23°47′.27 N; 060°35′.73 E

22°40′.62 N; 062°25′.29 E

21°47′.40 N; 063°22′.22 E

20°30′.37 N; 062°52′.41 E

19°45′.90 N; 062°25′.97 E

18°49′.92 N; 062°02′.94 E

17°44′.36 N; 061°05′.53 E

16°43′.71 N; 060°25′.62 E

16°03′.90 N; 059°32′.24 E

15°15′.20 N; 058°58′.52 E

14°36′.93 N; 058°10′.23 E

14°18′.93 N; 057°27′.03 E

14°11′.53 N; 056°53′.75 E

13°53′.80 N; 056°19′.24 E

13°45′.86 N; 055°54′.53 E

14°27′.38 N; 054°51′.42 E

14°40′.10 N; 054°27′.35 E

14°46′.21 N; 054°08′.56 E

15°20′.74 N; 053°38′.33 E

15°48′.69 N; 053°32′.07 E

16°23′.02 N; 053°14′.82 E

(10) The Southern South African waters means the sea area enclosed by the following co-ordinates:

31°14′ S; 017°50′ E

31°30′ S; 017°12′ E

32°00′ S; 017°06′ E

32°32′ S; 016°52′ E

34°06′ S; 017°24′ E

36°58′ S; 020°54′ E

36°00′ S; 022°30′ E

35°14′ S; 022°54′ E

34°30′ S; 026°00′ E

33°48′ S; 027°25′ E

33°27′ S; 027°12′ E

(11) The North Sea area means the North Sea proper, including seas within the North Sea southwards of latitude 62° N and eastwards of longitude 4° W; the Skagerrak, the southern limit of which is determined east of the Skaw by latitude 57°44.8′ N; and the English Channel and its approaches eastwards of longitude 5° W.

(12) The Wider Caribbean region means the Gulf of Mexico and Caribbean Sea proper, including the bays and seas therein and that portion of the Atlantic Ocean within the boundary constituted by the 30° N parallel from Florida eastward to 77°30′ W meridian, thence a rhumb line to the intersection of 20° N parallel and 59° W meridian, thence a rhumb line to the intersection of 7°20′ N parallel and 50° W meridian, thence a rhumb line drawn southwesterly to the eastern boundary of French Guiana.

* * * * *

61. In § 151.09, move the note located after paragraph (b)(3) to the end of the section and revise the note to read as follows:

§ 151.09 Applicability.

* * * * *

(e) * * *

Note to § 151.09(c)(3): The term “internal waters” is defined in § 2.24 of this chapter.

§ 151.13 [Amended]

62. In § 151.13—

a. In paragraph (a), add the phrase “, the North West European waters, and Oman area of the Arabian Sea” after the phrase “Antarctic area”; and

b. Revise paragraph (h) to read as follows:

§ 151.13 Special areas for Annex I of MARPOL 73/78.

* * * * *

(h) In accordance with Regulation 38.6.1 of Annex I of MARPOL 73/78, the discharge restriction in § 151.13 for the Red Sea area, Gulfs area, Gulf of Aden area, the Oman area of the Arabian Sea, and the Southern South African waters will enter into effect when each party to MARPOL 73/78 whose coastline borders the special area has certified that reception facilities are available and the IMO has established an effective date for each special area. Notice of the effective dates for the discharge requirements in these special areas will be published in the Federal Register and reflected in this section.

§ 151.15 [Amended]

63. In § 151.15(d)(2), remove the phone numbers “202-372-2428), fax number 202-372-2920” and add, in its place, the phone numbers “202-267-2675), fax 202-267-1322”.

§ 151.26 [Amended]

64. In § 151.26 (b)(3)(iii)(B), remove the phrase “toll free number 800-424-8802” and add, in its place, the phrase “toll free telephone number: 800-424-8802, direct telephone: 202-267-2675, or Fax: 202-267-1322”.

§ 151.27 [Amended]

65. In § 151.27(b), remove the office symbol “G-MOR” and add, in its place, the office symbol “CG-5431”.

§ 151.28 [Amended]

66. In § 151.28, remove the office symbol “G-MOR” wherever it appears and add, in its place, the office symbol “CG-5431”.

§ 151.30 [Amended]

67. In § 151.30—

a. In paragraph (a)(4), remove the number “2.05-10” and add, in its place, the number “2.22”; and

b. Revise the note at the end of the section to read as follows:

§ 151.30 Applicability.

* * * * *

Note to § 151.30 (b)(4): The term “internal waters” is defined in § 2.24 of this chapter.

§ 151.39 [Amended]

68. In § 151.39, remove the reference “153.906,”.

§ 151.49 [Amended]

69. In § 151.49(a), remove the word “Isopropylcyclohexane”.

70. In § 151.66, revise the note at the end of the section to read as follows:

§ 151.66 Operating requirements: Discharge of garbage in the navigable waters prohibited.

* * * * *

Note to § 151.66: The navigable waters are defined in § 2.36 of this chapter.

§ 151.79 [Amended]

71. In § 151.79(c), remove the phrase “toll free number 800-424-8802” and add, in its place, the phrase “toll free telephone number: 800-424-8802, direct telephone: 202-267-2675, or Fax: 202-267-1322”.

§ 151.1012 [Amended]

72. In § 151.1012(a), remove the office symbol “G-MOC” and add, in its place, the office symbol “CG-5431”.

§ 151.1021 [Amended]

73. In § 151.1021(b)(1), remove the phrase “Assistant Commandant for Marine Safety, Security and Environmental Protection, U.S. Coast Guard, Washington, DC 20593-0001;” and add, in its place, the phrase “Assistant Commandant for Marine Safety, Security, and Stewardship (CG-5), U.S. Coast Guard Headquarters, 2100 Second Street, SW., Washington, DC 20593-0001.”.

§ 151.2043 [Amended]

74. In § 151.2043(a), remove the phrase “Assistant Commandant for Marine Safety, Security and Environmental Protection (G-M)” and add, in its place, the phrase “Assistant Commandant for Marine Safety, Security, and Stewardship (CG-5)” and remove the office symbol “G-MSO-4” wherever it appears and add, in its place, the office symbol “CG-5224”.

Appendix to Subpart D of Part 151 [Amended]

75-76. In the final paragraph of the Appendix to Subpart D, remove the office symbol “G-MSO” and add, in its place, the office symbol “CG-524”.

PART 153—CONTROL OF POLLUTION BY OIL AND HAZARDOUS SUBSTANCES, DISCHARGE REMOVAL

77. The authority citation for part 153 continues to read as follows:

Authority: 14 U.S.C. 633; 33 U.S.C.F 1321, 1903, 1908; 42 U.S.C. 9615; 46 U.S.C. 6101; E.O. 12580, 3 CFR, 1987 Comp., p. 193; E.O. 12777, 3 CFR, 1991 Comp., p. 351; Department of Homeland Security Delegation No. 0170.1.

§ 153.103 [Amended]

78. In § 153.103(k), remove the reference “2.05-25(b)”, and add, in its place, the reference “2.36(b)”.

§ 153.203 [Amended]

79. In § 153.203, remove the phrase “2100 Second Street, SW., Washington, DC 20593, toll free telephone number 800-424-8802 (in Washington, DC metropolitan area, 202-372-2428; fax number 202-372-2920)” and add, in its place, the phrase “Room 2111, 2100 Second Street, SW., Washington, DC 20593-0001, toll free telephone number: 800-424-8802, direct telephone: 202-267-2675, or Fax: 202-267-1322”.

PART 154—FACILITIES TRANSFERRING OIL OR HAZARDOUS MATERIAL IN BULK

80. The authority citation for part 154 continues to read as follows:

Authority: 33 U.S.C. 1231, 1321(j)(1)(C), (j)(5), (j)(6), and (m)(2); sec. 2, E.O. 12777, 56 FR 54757; Department of Homeland Security Delegation No. 0170.1. Subpart F is also issued under 33 U.S.C. 2735.

§ 154.1016 [Amended]

81. In § 154.1016(c), remove the reference “2.05-25” and add, in its place, the reference “2.36”.

§ 154.1035 [Amended]

82. In § 154.1035(b)(1)(ii), add “or direct telephone: 202-267-2675.” at the end of the second sentence following Figure 1.

§ 154.1216 [Amended]

83. In § 154.1216(b)(5), remove the reference “part 2.05-25” and add, in its place, the reference “2.36”.

PART 155—OIL OR HAZARDOUS MATERIAL POLLUTION PREVENTION REGULATIONS FOR VESSELS

84. Revise the authority citation for part 155 to read as follows:

Authority: 33 U.S.C. 1231, 1321(j); E.O. 11735, 3 CFR, 1971-1975 Comp., p. 793. Sections 155.100 through 155.130, 155.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380. Sections 155.110-155.130, 155.350-155.400, 155.430, 155.440, 155.470, 155.1030(j) and (k), and 155.1065(g) also issued under 33 U.S.C. 1903(b); and §§ 155.1110-155.1150 also issued under 33 U.S.C. 2735.

§ 155.140 [Amended]

85. In § 155.140(a), remove the office symbol “G-MOC” and add, in its place, the office symbol “CG-543”.

§ 155.1025 [Amended]

86. In § 155.1025(e)(1), remove the number “26” and add, in its place, the number “37” and remove the phrase “which is available from the National Technical Information Service, 5285 Port Royal Road, Springfield, VA 22161”.

§ 155.1030 [Amended]

87. In § 155.1030—

a. In paragraphs (j) introductory text and (j)(3), remove the number “26” and add, in its place, the number “37”; and

b. In paragraph (k) introductory text, remove the number “26” and add, in its place, the number “37”.

§ 155.1035 [Amended]

88. In § 155.1035(b)(5)(i), remove the office symbol “COMDT G-MSO-4” and add, in its place, the phrase “ the Office of Operating and Environmental Standards (CG-522).”.

§ 155.1050 [Amended]

89. In § 155.1050(l)(1)(iii), remove the word “Portable” and add, in its place, the phrase “Emergency lightering equipment, including portable”.

§ 155.1060 [Amended]

90. In § 155.1060, in the note to paragraph (h), remove the Web site address “http://dmses.dot.gov/docimages/pdf1a/198001_web.pdf” and add, in its place, “http://www.uscg.mil/hq/g-m/nmc/response/msprep.pdf”.

§ 155.1065 [Amended]

91. In § 155.1065—

a. In paragraph (a), remove the office symbol “G-MOR” and add, in its place, the phrase “CG-5431” and add the phrase “ or vrp@uscg.mil” after “20593-001”; and

b. In paragraph (g), remove the phrase “Regulation 26” wherever it appears and add, in its place, the phrase “Regulation 37”; and

c. In paragraph (h), remove the phrase “Assistant Commandant for Marine Safety, Security and Environmental Protection” and add, in its place, the phrase “Prevention Policy Directorate for Marine Safety, Security, and Stewardship (CG-54)” and remove the office symbol “G-M” and add, in its place, the office symbol “CG-54”.

§ 155.1070 [Amended]

92. In § 155.1070(f), remove the phrase “Assistant Commandant for Marine Safety, Security and Environmental Protection (G-M)” and add, in its place, “Prevention Policy Directorate for Marine Safety, Security, and Stewardship (CG-54)” and add the phrase “ or vrp@uscg.mil” after “20593-001”.

93. In part 155, Appendix B 6.5, remove the office symbol “G-MOR” and add, in its place, the office symbol “CG-5431” and add the phrase “ or vrp@uscg.mil” after “20593-001”.

PART 156—OIL AND HAZARDOUS MATERIAL TRANSFER OPERATIONS

94. The authority citation for part 156 continues to read as follows:

Authority: 33 U.S.C. 1231, 1321(j); 46 U.S.C. 3703a, 3715; E.O. 11735, 3 CFR 1971-1975 Comp., p. 793. Section 156.120 (bb) and (ee) are also issued under 46 U.S.C. 3703.

§ 156.111 [Amended]

95. In § 156.111(a), remove the office symbol “G-MOC” and add, in its place, the office symbol “CG-543”.

PART 157—RULES FOR THE PROTECTION OF THE MARINE ENVIRONMENT RELATING TO TANK VESSELS CARRYING OIL IN BULK

96. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

Part 157 [Amended]

97. In part 157, remove the office symbol “G-MOC” wherever it appears and add, in its place, the office symbol “CG-543”.

§ 157.02 [Amended]

98. In § 157.02(a), remove the office symbol “G-MSO” and add, in its place, the office symbol “CG-522”.

§ 157.06 [Amended]

99. In § 157.06(c) and (d), remove the phrase “Assistant Commandant for Marine Safety, Security and Environmental Protection” and add, in its place, the phrase “Assistant Commandant for Marine Safety, Security, and Stewardship (CG-5)”.

§ 157.08 [Amended]

100. In § 157.08(n)(3)(ii)(B), remove the reference “2.05-10”, and add, in its place, the reference “2.20”.

§ 157.37 [Amended]

101. In § 157.37(a)(7), remove the phrase “Regulation 1(10)” and add, in its place, the phrase “Regulation 1.11”.

§ 157.100 [Amended]

102. In § 157.100(b), remove the phrase “400 7th Street, SW., Washington, DC 20590-0001” and add, in its place, the phrase “2100 2nd Street, SW., Jemal Building, JR10-0525, Washington, DC 20593-0001”.

§ 157.200 [Amended]

103. In § 157.200(b), remove the phrase “400 7th Street, SW., Washington, DC 20590-0001” and add, in its place, the phrase “2100 2nd Street, SW., Jemal Building, JR10-0525, Washington, DC 20593-0001”.

Appendix A to Part 157 [Amended]

104. In Appendix A of part 157, in paragraph 1. Source., remove the phrase “Regulations 22, 23, and 24” and add, in its place, the phrase “Regulations 24, 25, and 26”.

Appendix B to Part 157 [Amended]

105. In Appendix B of part 157, paragraph 1. Source., remove the phrase “Regulation 25” and add, in its place, the phrase “Regulation 28”.

Appendix C to Part 157 [Amended]

106. In Appendix C of part 157, paragraph 1. Source., remove the phrase “Regulation 13E” and add, in its place, the phrase “Regulation 18, paragraphs 12-15”.

PART 158—RECEPTION FACILITIES FOR OIL, NOXIOUS LIQUID SUBSTANCES, AND GARBAGE

107. The authority citation for part 158 continues to read as follows:

Authority: 33 U.S.C. 1903(b); 49 CFR 1.46.

§ 158.120 [Amended]

108. In § 158.120, in paragraph (4) of the definition of “Oceangoing ship”, remove the number “2.05”, and add, in its place, the number “2.22”.

PART 159—MARINE SANITATION DEVICES

109. The authority citation for part 159 continues to read as follows:

Authority: 33 U.S.C. 1322(b)(1); 49 CFR 1.45(b). Subpart E also issued under authority of sec. 1(a)(4), Pub. L. 106-554, 114 Stat. 2763; Department of Homeland Security Delegation No. 0170.1.

Part 159 [Amended]

110. In part 159, remove the phrase “400 7th Street, SW., Washington, DC 20590” wherever it appears and add, in its place, the phrase “2100 2nd Street, SW., Jemal Building, JR10-0525, Washington, DC 20593-0001”.

§ 159.201 [Amended]

111. In § 159.201, remove the office symbol “G-MSE-3” and add, in its place, the office symbol “CG-5213”.

PART 161—VESSEL TRAFFIC MANAGEMENT

112. Revise the authority citation for part 161 to read as follows:

Authority: 33 U.S.C. 1223, 1231; 46 U.S.C. 70114, 70119; Pub. L. 107-295, 116 Stat. 2064; Department of Homeland Security Delegation No. 0170.1.

§ 161.12 [Amended]

113. In § 161.12(c) Table 161.12(c)—

a. In the first Seattle Traffic-003669957 entry, remove the phrase “Marrowstone Point and Lagoon Point” and add, in its place, the phrase “Nodule Point and Bush Point” and

b. In the second Seattle Traffic-003669957 entry, remove the phrase “Marrowstone Point and Lagoon Point” and add, in its place, the phrase “Nodule Point and Bush Point”.

PART 162—INLAND WATERWAYS NAVIGATION REGULATIONS

114. The authority citation for part 162 continues to read as follows:

Authority: 33 U.S.C. 1231; Department of Homeland Security Delegation No. 0170.1, para. 2(70).

§ 162.15 [Amended]

115. In § 162.15 paragraph (a)—

a. Remove “166°50′ true from latitude 40°50′17.337”, longitude 73°43′03.877″” and add, in its place, “166°50′ true from latitude 40°50′17.337 N”, longitude 73°43′03.877 W”; and

b. Remove the reference “§ 202.60” and add, in its place, the reference “§ 110.60”.

§ 162.75 [Amended]

116. In § 162.75—

a. In paragraph (b)(3)(i), remove “protions” and add, in its place, “portions”;

b. In paragraph (b) (4), remove the word “over” and add, in its place, the word “other”;

c. In paragraph (b)(5)(vi), remove the numbers “504-589-7101” and add, in its place, the numbers “504-846-5923”; and

d. In paragraph (b)(7), remove the “,” after the word “currents”.

§ 162.90 [Amended]

117. In § 162.90 paragraph (b)(4)(i), remove “bridlse” and add, in its place, “bridle”.

118. In § 162.200, revise paragraph (a) to read as follows:

§ 162.200 Marina del Rey, Calif.; restricted area.

(a) The area. That portion of the Pacific Ocean lying shoreward of the offshore breakwater and the most seaward 1,000 feet of the entrance channel between the north and south jetties, and basically outlined as follows:

Station | Latitude North | Longitude West
A | 33°57′46.0″ | 118°27′39.5″
B | 33°57′52.3″ | 118°27′43.6″
C | 33°57′48.6″ | 118°27′48.8″
D | 33°57′29.8″ | 118°27′34.7″
E | 33°57′30.9″ | 118°27′29.1″
F | 33°57′37.4″ | 118°27′33.8″
G | 33°57′42.4″ | 118°27′23.0″
H | 33°57′50.6″ | 118°27′28.3″

* * * * *

§ 162.220 [Amended]

119. In § 162.220, in paragraph (a)(2), remove the last sentence “Copies of said permits shall be furnished the enforcing agencies.” and add, in its place, the sentence “Copies of said permits must be furnished to the enforcing agencies.”.

120. Revise § 162.235 paragraph (a)(6) to read as follows:

§ 162.235 Puget Sound Area, Wash.

(a) * * *

(6) Tows. No tow shall enter or pass through the canal with a towline more than 200 feet in length.

* * * * *

§ 162.240 [Amended]

121-122. In § 162.240 paragraph (d), remove the phrase “Commanding Officer, Sector Office, Juneau, Alaska” and add, in its place, the phrase “Commander, Sector Juneau.”

PART 164—NAVIGATION SAFETY REGULATIONS

123. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.03 [Amended]

124. In § 164.03(a), remove the phrase “Office of Vessel Traffic Management (G-MWV)” and add, in its place, the phrase “Navigation Systems Division (CG-5413),”.

PART 165—REGULATED NAVIGATION AREAS AND LIMITED ACCESS AREAS

125. The authority citation for part 165 continues to read as follows:

Authority: 33 U.S.C. 1226, 1231; 46 U.S.C. Chapter 701, 3306, 3703; 50 U.S.C. 191, 195; 33 CFR 1.05-1(g), 6.04-1, 6.04-6, 160.5; Pub. L. 107-295, 116 Stat. 2064; Department of Homeland Security Delegation No. 0170.1

§ 165.100 [Amended]

126. In § 165.100(a), remove the reference “2.05-25(a)” and add, in its place, the reference “2.36”.

127. Revise § 165.161 to read as follows:

§ 165.161 Safety zones: Coast Guard Captain of the Port New York annual fireworks displays.

(a) Safety zones. The following areas are designated safety zones:

(1) Bar Beach fireworks, Hempstead Harbor, NY:

(i) Location. All waters of Hempstead Harbor within a 300-yard radius of the fireworks barge in approximate position 40°49′54″ N 073°39′14″ W (NAD 1983), about 360 yards north of Bar Beach, Hempstead Harbor.

(ii) Effective period. Paragraph (a)(1)(i) of this section is in effect annually from 8 p.m. (e.s.t.) to 1 a.m. (e.s.t.) on the Friday before Memorial Day, and the Saturday after Labor Day. If the event is cancelled due to inclement weather, then paragraph (a)(1)(i) of this section is effective from 8 p.m. (e.s.t.) to 1 a.m. (e.s.t.) on the Saturday before Memorial Day and the Sunday after Labor Day.

(2) Seaport Memorial Day fireworks, East River, NY:

(i) Location. All waters of the East River south of the Brooklyn Bridge and north of a line drawn from the southwest corner of Pier 3, Brooklyn, to the northeast corner of Pier 6, Manhattan.

(ii) Effective period. Paragraph (a)(2)(i) of this section is in effect annually from 8 p.m. (e.s.t.) to 1 a.m. (e.s.t.) on Memorial Day. If the event is cancelled due to inclement weather, then paragraph (a)(2)(i) of this section is effective from 8 p.m. (e.s.t.) to 1 a.m. (e.s.t.) on the day following Memorial Day.

(3) Red Bank, NJ, July 3rd fireworks, Navesink River:

(i) Location. All waters of the Navesink River within a 360-yard radius of the fireworks barge in approximate position 40°21′20″ N 074°04′10″ W (NAD 1983), about 360 yards northwest of Red Bank, NJ.

(ii) Effective period. Paragraph (a)(3)(i) of this section is in effect annually from 8 p.m. (e.s.t.) to 1 a.m. (e.s.t.) on July 3rd. If the event is cancelled due to inclement weather, then paragraph (a)(3)(i) of this section is effective from 8 p.m. (e.s.t.) to 1 a.m. (e.s.t.) on July 4th.

(4) Seaport Labor Day fireworks, East River, NY:

(i) Location. All waters of the East River south of the Brooklyn Bridge and north of a line drawn from the southwest corner of Pier 3, Brooklyn, to the northeast corner of Pier 6, Manhattan.

(ii) Effective period. Paragraph (a)(4)(i) of this section is in effect annually from 8 p.m. (e.s.t.) to 1 a.m. (e.s.t.) on Labor Day. If the event is cancelled due to inclement weather, then paragraph (a)(4)(i) of this section is effective from 8 p.m. (e.s.t.) to 1 a.m. (e.s.t.) on the day following Labor Day.

(5) Deepavali Festival fireworks, East River, NY:

(i) Location. All waters of the East River south of the Brooklyn Bridge and north of a line drawn from the southwest corner of Pier 3, Brooklyn, to the northeast corner of Pier 6, Manhattan.

(ii) Effective period. Paragraph (a)(5)(i) of this section is in effect annually from 6 p.m. (e.s.t.) to 1 a.m. (e.s.t.) on the first Sunday in October. If the event is cancelled due to inclement weather, then paragraph (a)(5)(i) of this section is effective from 6 p.m. (e.s.t.) to 1 a.m. (e.s.t.) on the first Monday in October.

(6) Seaport New Year's Eve fireworks, East River, NY:

(i) Location. All waters of the East River south of the Brooklyn Bridge and north of a line drawn from the southwest corner of Pier 3, Brooklyn, to the northeast corner of Pier 6, Manhattan.

(ii) Effective period. Paragraph (a)(6)(i) of this section is in effect annually from 8 p.m. (e.s.t.) to 1 a.m. (e.s.t.) on New Year's Eve. If the event is cancelled due to inclement weather, then paragraph (a)(6)(i) of this section is effective from 8 p.m. (e.s.t.) to 1 a.m. (e.s.t.) on the day following New Year's Eve.

(b) Regulations. (1) The general regulations contained in 33 CFR 165.23 apply.

(2) All persons and vessels must comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

§ 165.165 [Removed]

128. Remove § 165.165.

§ 165.167 [Removed]

129. Remove § 165.167.

§ 165.168 [Amended]

130. In the heading of § 165.168, remove the word “Activities” and add, in its place, the phrase “Captain of the Port”.

§ 165.169 [Amended]

131. In § 165.169, remove the Web site “http://www.harborops.com” wherever it appears and add, in its place, “http://homeport.uscg.mil/newyork”.

§ 165.754 [Amended]

132. In § 165.754—

a. In paragraph (b)(3), remove the phrase “The Captain of the Port and the Duty Officer at Sector, San Juan, Puerto Rico, can be contacted at telephone number 787-706-2444 or 787-289-2048.” and add, in its place, the phrase “The Captain of the Port and the Duty Officer at Sector San Juan, Puerto Rico, can be contacted at telephone number 787-289-2041.” and

b. In paragraph (b)(4), remove the phrase “The Sector San Juan” and add, in its place, the phrase “Coast Guard Sector San Juan”.

§ 165.755 [Amended]

133. In § 165.755—

a. In paragraph (a)(2), remove the phrase “liquefied natural gas” and add, in its place, “LNG” and

b. In paragraph (c), remove the phrase “The Coast Guard Sector San Juan” and add, in its place, the phrase “Coast Guard Sector San Juan”.

§ 165.757 [Amended]

134. In § 165.757(b), remove the phrase “The Sector San Juan” and add, in its place, the phrase “Coast Guard Sector San Juan”.

§ 165.758 [Amended]

134a. In § 165.758—

a. In paragraph (b)(2), remove the phrase “Captain of the Port at the Greater Antilles Section Operations Center” and add, in its place, the phrase “Captain of the Port at the Sector San Juan”; and

b. In paragraph (b)(3), remove the phrase “Sector San Juan” and add, in its place, the phrase “Coast Guard Sector San Juan”.

§ 165.762 [Amended]

135. In § 165.762—

a. In paragraph (b)(2), remove the phrase “Captain of the Port at the Greater Antilles Section Operations Center” and add, in its place, the phrase “Captain of the Port at the Sector San Juan” and

b. In paragraph (b)(3) remove the phrase “The Sector San Juan” and add, in its place, the phrase “Coast Guard Sector San Juan”.

PART 166—SHIPPING SAFETY FAIRWAYS

136. The authority citation for part 166 continues to read as follows:

Authority: 33 U.S.C. 1223; 49 CFR 1.46.

§ 166.200 [Amended]

137. In § 166.200—

a. In paragraph (b), remove the word “provide” and add, in its place, the word “provided” and

b. Revise paragraph (d) to read as follows:

§ 166.200 Shipping safety fairways and anchorage areas, Gulf of Mexico.

* * * * *

(d) Designated Areas. (1) Brazos Santiago Pass Safety Fairway. The areas between rhumb lines joining points at:

Latitude North | Longitude West
26°03′27″ | 97°08′36″
26°02′57″ | 97°07′11″
26°02′06″ | 96°57′24″
25°58′54″ | 96°19′00″

and rhumb lines joining points at:

Latitude North | Longitude West
26°04′27″ | 97°08′36″
26°04′58″ | 97°07′07″
26°04′12″ | 96°59′30″
26°04′00″ | 96°57′24″
26°00′54″ | 96°19′00″

(2) Brazos Santiago Pass Anchorage Areas. The areas enclosed by rhumb lines joining points at:

Latitude North | Longitude West
26°02′57″ | 97°07′11″
26°02′06″ | 96°57′24″
25°58′54″ | 96°57′24″
25°58′54″ | 97°07′18″
26°02′57″ | 97°07′11″

and rhumb lines joining points at:

Latitude North | Longitude West
26°04′58″ | 97°07′07″
26°09′00″ | 97°07′00″
26°09′00″ | 96°59′30″
26°04′12″ | 96°59′30″
26°04′58″ | 97°07′07″

(3) Port Mansfield Safety Fairway. The area between a rhumb line joining points at:

Latitude North | Longitude West
26°33′39″ | 97°16′04″
26°33′43″ | 97°14′38″

and rhumb lines joining points at:

Latitude North | Longitude West
26°34′04″ | 97°16′05″
26°34′40″ | 97°15′47″
26°34′43″ | 97°14′40″

(4) Aransas Pass Safety Fairway. The area between rhumb lines joining points at:

Latitude North | Longitude West
27°49′21″ | 97°02′08″
27°48′11″ | 97°01′06″
27°46′26″ | 96°57′40″
27°45′14″ | 96°55′26″
27°44′09″ | 96°53′25″
27°42′47″ | 96°51′39″
27°39′24″ | 96°48′26″
27°21′59″ | 96°11′42″

and rhumb lines joining points at:

Latitude North | Longitude West
27°50′15″ | 97°01′32″
27°49′54″ | 96°59′56″
27°45′22″ | 96°51′19″
27°44′35″ | 96°48′31″
27°43′49″ | 96°45′47″
27°35′17″ | 96°27′46″
27°33′33″ | 96°24′06″
27°25′53″ | 96°07′56″

separated by areas enclosed by rhumb lines joining points at:

Latitude North | Longitude West
27°41′10″ | 96°47′23″
27°34′50″ | 96°34′01″
27°34′59″ | 96°31′56″
27°42′03″ | 96°46′51″
27°41′10″ | 96°47′23″

and rhumb lines joining points at:

Latitude North | Longitude West
27°33′06″ | 96°30′21″
27°23′33″ | 96°10′12″
27°24′19″ | 96°09′26″
27°33′15″ | 96°28′16″
27°33′06″ | 96°30′21″

(5) Aransas Pass Anchorage Areas. The areas enclosed by rhumb lines joining points at:

Latitude North | Longitude West
27°49′54″ | 96°59′56″
27°45′22″ | 96°51′19″
27°51′46″ | 96°40′12″
27°53′36″ | 96°56′30″
27°49′54″ | 96°59′56″

and rhumb lines joining points at:

Latitude North | Longitude West
27°45′14″ | 96°55′26″
27°43′00″ | 96°55′27″
27°44′09″ | 96°53′25″
27°45′14″ | 96°55′26″

(6) Matagorda Entrance Safety Fairway. The areas between rhumb lines joining points at:

Latitude North | Longitude West
28°24′50″ | 96°19′38″
28°22′16″ | 96°17′40″
28°14′48″ | 96°09′42″
28°11′24″ | 96°06′06″
28°10′06″ | 96°04′42″
27°38′02″ | 95°49′39″

with rhumb lines joining points at:

Latitude North | Longitude West
28°25′31″ | 96°18′48″
28°23′38″ | 96°16′00″
28°16′12″ | 96°08′06″
28°12′30″ | 96°04′12″
28°11′13″ | 96°02′46″
27°38′12″ | 95°47′19″

(7) Matagorda Entrance Anchorage Areas. The areas enclosed by rhumb lines joining points at:

Latitude North | Longitude West
28°22′16″ | 96°17′40″
28°14′48″ | 96°09′42″
28°12′42″ | 96°12′12″
28°20′12″ | 96°20′12″
28°22′16″ | 96°17′40″

and rhumb lines joining points at:

Latitude North | Longitude West
28°23′38″ | 96°16′00″
28°25′36″ | 96°13′36″
28°18′12″ | 96°05′36″
28°16′12″ | 96°08′06″
28°23′38″ | 96°16′00″

(8) Freeport Harbor Safety Fairway. The area between rhumb lines joining points at:

Latitude North | Longitude West
28°55′19″ | 95°17′46″
28°52′58″ | 95°16′06″
28°44′52″ | 95°07′43″
28°43′32″ | 95°06′18″
28°04′48″ | 94°26′12″

and rhumb lines joining points at:

Latitude North | Longitude West
28°55′59″ | 95°16′55″
28°54′05″ | 95°14′10″
28°45′58″ | 95°5′48″
28°44′39″ | 95°04′22″
28°07′46″ | 94°26′12″

(9) Freeport Harbor Anchorage Areas. The areas enclosed by rhumb lines joining points at:

Latitude North | Longitude West
28°52′58″ | 95°16′06″
28°44′52″ | 95°07′43″
28°42′24″ | 95°12′00″
28°51′30″ | 95°18′42″
28°52′58″ | 95°16′06″

and rhumb lines joining points at:

Latitude North | Longitude West
28°54′05″ | 95°14′10″
28°56′54″ | 95°09′18″
28°47′42″ | 95°02′42″
28°45′58″ | 95°05′48″
28°54′05″ | 95°14′10″

(10) Galveston Entrance Safety Fairways. The areas between rhumb lines joining points at:

Latitude North | Longitude West
27°44′03″ | 94°26′12″
28°04′48″ | 94°26′12″
28°07′46″ | 94°26′12″
29°06′24″ | 94°26′12″
29°07′42″ | 94°27′48″
29°18′10″ | 94°39′16″
29°19′39″ | 94°41′33″
29°20′44″ | 94°40′44″
29°19′23″ | 94°37′08″
29°10′30″ | 94°22′54″
29°10′17″ | 94°22′30″
29°09′06″ | 94°20′36″
28°17′17″ | 92°57′59″

and rhumb lines joining points at:

Latitude North | Longitude West
27°44′13″ | 94°23′57″
29°06′24″ | 94°23′55″
29°07′41″ | 94°22′23″
28°11′57″ | 92°53′25″

(11) Galveston Entrance Anchorage Areas. The areas enclosed by rhumb lines joining points at:

Latitude North | Longitude West
9°18′10″ | 94°39′16″
29°08′04″ | 94°28′12″
29°03′13″ | 94°36′48″
29°14′48″ | 94°45′12″
29°18′10″ | 94°39′16″

and rhumb lines joining points at:

Latitude North | Longitude West
29°19′23″ | 94°37′08″
29°22′18″ | 94°32′00″
29°14′23″ | 94°25′53″
29°13′24″ | 94°27′33″
29°19′23″ | 94°37′08″

(12) Sabine Pass Safety Fairway. The areas between rhumb lines joining points at:

Latitude North | Longitude West
29°38′25″ | 93°50′02″
29°35′19″ | 93°49′10″
29°33′00″ | 93°46′26″
29°32′03″ | 93°46′44″
29°30′39″ | 93°43′41″
29°28′30″ | 93°41′09″
29°07′28″ | 93°41′08″
28°17′17″ | 92°57′59″
28°11′57″ | 92°53′25″
27°51′58″ | 92°36′20″

and rhumb lines joining points at:

Latitude North | Longitude West
29°38′48″ | 93°48′59″
29°37′32″ | 93°48′02″
29°36′28″ | 93°47′14″
29°32′52″ | 93°43′00″
29°31′13″ | 93°41′04″
29°29′20″ | 93°38′51″
29°08′08″ | 93°38′52″
28°39′02″ | 93°13′39″
28°36′15″ | 93°11′15″
27°52′09″ | 92°33′40″

(13) Sabine Pass Anchorage Areas. (i) Sabine Pass Inshore Anchorage Area. The area enclosed by rhumb lines joining points at:

Latitude North | Longitude West
29°37′32″ | 93°48′02″
29°37′32″ | 93°21′25″
29°32′52″ | 93°43′00″
29°36′28″ | 93°47′14″

(ii) Sabine Bank Offshore (North) Anchorage Area. The area enclosed by rhumb lines joining points at:

Latitude North | Longitude West
29°26′06″ | 93°43′00″
29°26′06″ | 93°41′08″
29°24′06″ | 93°41′08″
29°24′06″ | 93°43′00″

(iii) Sabine Bank Offshore (South) Anchorage Area. The area enclosed by rhumb lines joining points at:

Latitude North | Longitude West
29°16′55″ | 93°43′00″
29°16′55″ | 93°41′08″
29°14′29″ | 93°41′08″
29°14′29″ | 93°43′00″

(iv) Sabine Bank Offshore (East) Anchorage Area. The area enclosed by rhumb lines joining points at:

Latitude North | Longitude West
29°26′06″ | 93°38′52″
29°26′06″ | 93°37′00″
29°24′06″ | 93°37′00″
29°24′06″ | 93°38′52″

(14) Coastwise Safety Fairways. (i) Brazos Santiago Pass to Aransas Pass. The areas between rhumb lines joining points at:

Latitude North | Longitude West
26°04′12″ | 96°59′30″
26°09′00″ | 96°59′30″
27°46′26″ | 96°57′40″

and rhumb lines joining points at:

Latitude North | Longitude West
25°58′54″ | 96°57′24″
26°02′06″ | 96°57′24″
26°04′00″ | 96°57′24″
27°40′36″ | 96°55′30″
27°43′00″ | 96°55′27″
27°45′14″ | 96°55′26″

(ii) Aransas Pass to Calcasieu Pass. The areas between rhumb lines joining points at:

Latitude North | Longitude West
27°43′00″ | 96°55′27″
27°44′09″ | 96°53′25″
27°45′22″ | 96°51′19″
27°51′46″ | 96°40′12″
28°11′24″ | 96°06′06″
28°12′30″ | 96°04′12″
28°42′24″ | 95°12′00″
28°44′52″ | 95°07′43″
28°45′58″ | 95°05′48″
28°47′42″ | 95°02′42″
29°07′42″ | 94°27′48″
29°10′17″ | 94°22′30″
29°29′30″ | 93°58′24″
29°32′03″ | 93°46′44″
29°33′00″ | 93°46′26″
29°32′52″ | 93°43′00″
29°37′32″ | 93°21′25″

with rhumb lines joining points at:

Latitude North | Longitude West
27°40′36″ | 96°55′30″
27°42′47″ | 96°51′39″
27°44′35″ | 96°48′31″
28°10′06″ | 96°04′42″
28°11′13″ | 96°02′46″
28°43′32″ | 95°06′18″
28°44′39″ | 95°04′22″
29°06′24″ | 94°26′12″
29°06′24″ | 94°23′55″
29°07′41″ | 94°22′23″
29°09′06″ | 94°20′36″
29°27′40″ | 93°57′18″
29°30′39″ | 93°43′41″
29°31′13″ | 93°41′04″
29°33′56″ | 93°28′35″
29°32′57″ | 93°17′00″

(15) Calcasieu Pass Safety Fairway. The areas between rhumb lines joining points at:

Latitude North | Longitude West
29°45′00″ | 93°20′58″
29°40′56″ | 93°20′18″
29°38′18″ | 93°20′42″
29°37′32″ | 93°21′25″
29°32′57″ | 93°17′00″
29°31′08″ | 93°14′38″
28°39′02″ | 93°13′39″

and rhumb lines joining points at:

Latitude North | Longitude West
29°45′05″ | 93°20′03″
29°41′12″ | 93°19′37″
29°37′30″ | 93°18′15″
29°31′16″ | 93°12′16″
28°36′15″ | 93°11′15″

(16) Calcasieu Pass Anchorage Areas. (i) Calcasieu Pass North Anchorage Area. The area enclosed by rhumb lines joining points at:

Latitude North | Longitude West
29°41′12″ | 93°19′37″
29°41′12″ | 93°12′28″
29°31′16″ | 93°12′16″
29°37′30″ | 93°18′15″

(ii) Calcasieu Pass South Anchorage Area. The area enclosed by rhumb lines joining points at:

Latitude North | Longitude West
28°59′30″ | 93°16′30″
28°59′30″ | 93°14′00″
28°56′00″ | 93°14′00″
28°56′00″ | 93°16′30″

(17) Lower Mud Lake Safety Fairway. The area enclosed by rhumb lines joining points at:

Latitude North | Longitude West
29°43′24″ | 93°00′18″
29°42′00″ | 93°00′18″

and rhumb lines joining points at:

Latitude North | Longitude West
29°43′33″ | 93°00′48″
29°42′00″ | 93°00′48″

(18) Freshwater Bayou Safety Fairway. The area between lines joining points at:

Latitude North | Longitude West
29°31′59″ | 92°18′45″
29°31′10″ | 92°18′54″
29°31′13″ | 92°19′14″
29°27′44″ | 92°19′53″

and a line joining points at:

Latitude North | Longitude West
29°27′34″ | 92°18′45″
29°31′03″ | 92°18′06″
29°31′06″ | 92°18′26″
29°31′55″ | 92°18′17″

(19) Southwest Pass Safety Fairway. The area between lines joining points at:

Latitude North | Longitude West
29°34′48″ | 92°03′12″
29°30′48″ | 92°07′00″
29°23′30″ | 92°08′24″

and lines joining points at:

Latitude North | Longitude West
29°34′24″ | 92°02′24″
29°30′24″ | 92°06′12″
29°23′24″ | 92°07′30″

(20) Atchafalaya Pass Safety Fairway. The area between a line joining points at:

Latitude North | Longitude West
29°22′36″ | 91°23′28″
29°14′42″ | 91°30′28″

and a line joining points at:

Latitude North | Longitude West
29°14′05″ | 91°29′34″
29°21′59″ | 91°22′34″

(21) Bayou Grand Caillou Safety Fairway. The area between a line joining points at:

Latitude North | Longitude West
29°10′59″ | 90°57′26″
29°05′24″ | 90°58′10″
29°01′08″ | 91°00′44″

and a line joining points at:

Latitude North | Longitude West
29°00′40″ | 90°59′43″
29°05′06″ | 90°57′03″
29°09′46″ | 90°56′27″

(22) Cat Island Pass Safety Fairway. The area between lines joining points at:

Latitude North | Longitude West
29°05′57″ | 90°34′32″
29°04′56″ | 90°35′09″
29°03′14″ | 90°35′10″
29°03′14″ | 90°35′17″
29°01′24″ | 90°34′55″

and lines joining points at:

Latitude North | Longitude West
29°06′00″ | 90°34′21″
29°05′31″ | 90°34′12″
29°03′13″ | 90°34′13″
29°03′13″ | 90°34′07″
29°01′34″ | 90°33′47″

(23) Belle Pass Safety Fairway. The area between a line joining points at:

Latitude North | Longitude West
29°05′06″ | 90°14′07″
29°02′50″ | 90°14′46″

and a line joining points at:

Latitude North | Longitude West
29°02′56″ | 90°13′48″
29°05′06″ | 90°13′10″

(24) Barataria Pass Safety Fairway. The area between a line joining points at:

Latitude North | Longitude West
29°16′00″ | 89°57′00″
29°14′54″ | 89°55′48″

and a line joining points at:

Latitude North | Longitude West
29°16′30″ | 89°56′06″
29°15′18″ | 89°55′00″

(25) Grand Bayou Pass Safety Fairway. The areas between a line joining points at:

Latitude North | Longitude West
29°17′36″ | 89°41′36″
29°16′48″ | 89°42′12″

and a line joining points at:

Latitude North | Longitude West
29°17′18″ | 89°40′36″
29°16′18″ | 89°41′18″

(26) Empire to the Gulf Safety Fairway. The area between a line joining points at:

Latitude North | Longitude West
29°15′22″ | 89°36′55″
29°13′52″ | 89°37′15″

and a line joining points at:

Latitude North | Longitude West
29°13′24″ | 89°36′11″
29°14′54″ | 89°35′51″

(27) Gulf Safety Fairway. Aransas Pass Safety Fairway to Southwest Pass Safety Fairway. The areas between rhumb lines joining points at:

Latitude North | Longitude West
27°33′06″ | 96°30′21″
27°33′15″ | 96°28′16″
27°33′33″ | 96°24′06″
28°00′36″ | 90°08′18″

and rhumb lines joining points at:

Latitude North | Longitude West
27°34′50″ | 96°34′01″
27°34′59″ | 96°31′56″
27°35′17″ | 96°27′46″
27°38′02″ | 95°49′39″
27°38′12″ | 95°47′19″
27°44′03″ | 94°26′12″
27°44′13″ | 94°23′57″
27°51′58″ | 92°36′20″
27°52′09″ | 92°33′40″
28°02′32″ | 90°09′28″

(28) Southwest Pass (Mississippi River) Safety Fairway. (i) Southwest Pass (Mississippi River) to Gulf Safety Fairway. The area enclosed by rhumb lines joining points at:

Latitude North | Longitude West
28°54′33″ | 89°26′07″
28°52′42″ | 89°27′06″
28°50′00″ | 89°27′06″
28°02′32″ | 90°09′28″

and rhumb lines joining points at:

Latitude North | Longitude West
28°54′18″ | 89°25′46″
28°53′30″ | 89°25′18″
28°53′30″ | 89°23′48″
28°50′40″ | 89°24′48″
28°48′48″ | 89°24′48″
28°47′24″ | 89°26′30″
28°00′36″ | 90°08′18″

(ii) Southwest Pass (Mississippi River) to Sea Safety Fairway. The area enclosed by rhumb lines joining points at:

Latitude North | Longitude West
28°54′33″ | 89°26′07″
28°52′42″ | 89°27′06″
28°50′00″ | 89°27′06″
28°47′24″ | 89°26′30″
28°36′28″ | 89°18′45″

and rhumb lines joining points at:

Latitude North | Longitude West
28°54′18″ | 89°25′46″
28°53′30″ | 89°25′18″
28°53′30″ | 89°23′48″
28°50′40″ | 89°24′48″
28°48′48″ | 89°24′48″
28°45′06″ | 89°22′12″
28°43′27″ | 89°21′01″
28°37′54″ | 89°17′06″

(iii) Southwest Pass (Mississippi River) to South Pass (Mississippi River) Safety Fairway. The areas between rhumb line joining points at:

Latitude North | Longitude West
28°45′06″ | 89°22′12″
28°55′56″ | 89°03′09″

and rhumb lines joining points at:

Latitude North | Longitude West
28°43′27″ | 89°21′01″
28°54′55″ | 89°00′44″

(29) Southwest Pass (Mississippi River) Anchorage. The area enclosed by rhumb lines joining points at:

Latitude North | Longitude West
28°53′30″ | 89°23′48″
28°53′30″ | 89°21′48″
28°55′06″ | 89°21′48″
28°55′06″ | 89°19′18″
28°52′41″ | 89°17′30″
28°50′40″ | 89°21′14″
28°50′40″ | 89°24′48″

(30) South Pass (Mississippi River) Safety Fairway. (i) South Pass to Sea Safety Fairway. The areas between rhumb lines joining points at:

Latitude North | Longitude West
28°59′18″ | 89°08′30″
28°58′42″ | 89°07′30″
28°58′09″ | 89°08′30″
28°55′56″ | 89°03′09″
28°54′55″ | 89°00′44″
28°54′15″ | 88°59′00″

and rhumb lines joining points at:

Latitude North | Longitude West
East jetty light:
28°59′24″ | 89°08′12″
29°00′09″ | 89°07′24″
29°00′00″ | 89°07′00″
28°57′56″ | 89°02′18″
28°57′18″ | 89°00′48″
28°56′16″ | 88°58′29″
28°55′42″ | 88°57′06″

(ii) South Pass (Mississippi River) to Mississippi River-Gulf Outlet Channel Safety Fairway. The areas between rhumb lines joining points at:

Latitude North | Longitude West
28°57′18″ | 89°00′48″
29°04′18″ | 88°48′31″
29°24′35″ | 88°57′17″

and rhumb lines joining points at:

Latitude North | Longitude West
28°56′16″ | 88°58′29″
29°03′30″ | 88°45′42″
29°23′06″ | 88°54′11″
29°26′28″ | 88°55′39″

(31) South Pass (Mississippi River) Anchorage. The areas within rhumb lines joining points at:

Latitude North | Longitude West
29°00′00″ | 89°07′00″
29°03′36″ | 89°02′18″
28°57′56″ | 89°02′18″

(32) Mississippi River-Gulf Outlet Safety Fairway. (i) The areas between rhumb lines joining points at:

Latitude North | Longitude West
29°42′10″ | 89°25′49″
29°29′33″ | 89°07′47″
29°27′14″ | 89°03′20″
29°24′38″ | 89°00′00″
29°24′35″ | 88°57′17″

and rhumb lines joining points at:

Latitude North | Longitude West
29°42′29″ | 89°25′31″
29°29′53″ | 89°07′31″
29°27′01″ | 89°01′54″
29°26′38″ | 88°58′43″

(ii) Mississippi River-Gulf Outlet Channel to Mobile Ship Channel Safety Fairway. The areas within rhumb lines joining points at:

Latitude North | Longitude West
29°26′38″ | 88°58′43″
29°29′57″ | 88°54′48″
29°38′59″ | 88°44′04″
29°56′43″ | 88°20′50″
29°58′03″ | 88°19′05″
30°05′29″ | 88°09′19″

and rhumb lines joining points at:

Latitude North | Longitude West
29°26′28″ | 88°55′39″
29°27′54″ | 88°53′54″
29°37′32″ | 88°42′28″
29°55′14″ | 88°19′15″
29°56′34″ | 88°17′30″
30°03′50″ | 88°08′01″
30°05′15″ | 88°06′05″

(33) Mississippi River-Gulf Outlet Anchorage. (i) The areas within rhumb lines joining points at:

Latitude North | Longitude West
29°27′01″ | 89°01′54″
29°32′12″ | 88°55′42″
29°29′57″ | 88°54′48″
29°26′38″ | 88°58′43″

(ii) The areas within rhumb lines joining points at:

Latitude North | Longitude West
29°26′28″ | 88°55′39″
29°27′54″ | 88°53′54″
29°24′33″ | 88°52′27″
29°23′06″ | 88°54′11″

(34) Gulfport Safety Fairway. The areas between rhumb lines joining points at:

Latitude North | Longitude West
30°20′54″ | 89°05′36″
30°13′56″ | 88°59′42″
30°11′09″ | 88°59′56″
30°06′45″ | 88°56′24″
30°05′42″ | 88°56′24″

and rhumb lines joining points at:

Latitude North | Longitude West
30°21′27″ | 89°04′38″
30°14′11″ | 88°58′29″
30°11′29″ | 88°58′45″
30°07′42″ | 88°55′37″

(35) Biloxi Safety Fairway. The area between lines joining points at:

Latitude North | Longitude West
30°24′06″ | 88°50′57″
30°23′15″ | 88°50′22″
30°21′11″ | 88°47′36″
30°20′13″ | 88°47′04″
30°15′06″ | 88°47′06″
30°13′09″ | 88°47′46″
30°12′23″ | 88°49′02″

and lines joining points at:

Latitude North | Longitude West
30°24′27″ | 88°50′31″
30°23′57″ | 88°49′31″
30°21′42″ | 88°46′36″
30°20′25″ | 88°45′55″
30°14′57″ | 88°45′57″
30°12′56″ | 88°46′39″
30°12′00″ | 88°45′25″

(36) Ship Island Pass to Horn Island Pass Safety Fairway. The areas between rhumb line joining points at:

Latitude North | Longitude West
30°05′42″ | 88°56′24″
30°06′38″ | 88°31′26″

and rhumb line joining points at:

Latitude North | Longitude West
30°07′42″ | 88°55′37″
30°08′27″ | 88°36′57″

(37) Pascagoula Safety Fairway. The areas between rhumb lines joining points at:

Latitude North | Longitude West
30°20′46″ | 88°34′39″
30°20′21″ | 88°34′39″
30°17′00″ | 88°31′21″
30°12′59″ | 88°30′53″
30°11′50″ | 88°32′05″
30°08′27″ | 88°36′57″
30°06′38″ | 88°31′26″
29°56′43″ | 88°20′50″
29°55′14″ | 88°19′15″
29°20′00″ | 87°41′47″

and rhumb line joining points at:

Latitude North | Longitude West
30°20′30″ | 88°33′18″
30°18′39″ | 88°31′25″

and rhumb line joining points at:

Latitude North | Longitude West
30°20′26″ | 188°31′25″
30°18′39″ | 188°31′25″

and rhumb lines joining points at:

Latitude North | Longitude West
30°19′21″ | 88°30′12″
30°17′25″ | 88°30′12″
30°12′46″ | 88°29′42″
30°11′21″ | 88°31′00″
30°09′33″ | 88°29′48″
30°07′30″ | 88°29′09″
29°58′03″ | 88°19′05″
29°56′34″ | 88°17′30″
29°20′48″ | 87°39′31″

(38) Horn Island Pass to Mobile Ship Channel Safety Fairway. The areas between rhumb line joining points at:

Latitude North | Longitude West
30°09′33″ | 88°29′48″
30°07′15″ | 88°06′54″

and rhumb line joining points at:

Latitude North | Longitude West
30°07′30″ | 88°29′09″
30°05′29″ | 88°09′19″

(39) Mobile Safety Fairway. (i) Mobile Ship Channel Safety Fairway. The areas between rhumb lines joining points at:

Latitude North | Longitude West
30°38′46″ | 88°03′24″
30°38′14″ | 88°02′42″
30°31′59″ | 88°02′00″
30°31′59″ | 88°04′59″

and rhumb lines joining points at:

Latitude North | Longitude West
30°31′00″ | 88°05′30″
30°31′00″ | 88°01′54″
30°26′55″ | 88°01′26″
30°16′35″ | 88°02′45″
30°14′09″ | 88°03′24″
30°10′36″ | 88°03′53″
30°08′10″ | 88°04′40″
30°07′15″ | 88°06′54″

and rhumb lines joining points at:

Latitude North | Longitude West
30°39′55″ | 88°01′15″
30°37′06″ | 88°01′23″
30°26′11″ | 88°00′11″
30°16′18″ | 88°01′35″
30°13′52″ | 88°01′12″
30°13′14″ | 88°01′12″
30°10′36″ | 88°01′35″
30°08′04″ | 88°00′36″

(ii) Mobile Ship Channel to Sea Safety Fairway. The areas between rhumb lines joining points at:

Latitude North | Longitude West
30°05′15″ | 88°01′13″
30°03′50″ | 88°00′00″
29°25′46″ | 87°29′13″

and rhumb line joining points at:

Latitude North | Longitude West
30°06′17″ | 87°59′15″
29°27′00″ | 87°27′18″

(iii) Mobile to Pensacola Safety Fairway. The areas between rhumb line joining points at:

Latitude North | Longitude West
30°08′04″ | 88°00′36″
30°14′20″ | 87°19′05″

and rhumb line joining points at:

Latitude North | Longitude West
30°06′17″ | 87°59′15″
30°12′31″ | 87°18′00″

(40) Mobile Anchorage. The areas within rhumb lines joining points at:

Latitude North | Longitude West
30°05′15″ | 88°06′05″
30°05′15″ | 88°01′13″
30°03′50″ | 88°00′00″
30°03′50″ | 88°08′01″

(41) Pensacola Safety Fairway. The areas between rhumb lines joining points at:

Latitude North | Longitude West
30°23′41″ | 87°14′34″
30°23′06″ | 87°13′53″
30°22′54″ | 87°13′53″
30°20′47″ | 87°15′45″

and rhumb lines joining points at:

Latitude North | Longitude West
30°18′43″ | 87°19′24″
30°15′57″ | 87°18′19″
30°14′20″ | 87°19′05″
30°12′31″ | 87°18′00″
30°10′03″ | 87°18′00″
29°37′00″ | 87°18′00″

and rhumb lines joining points at:

Latitude North | Longitude West
30°26′27″ | 87°08′28″
30°25′35″ | 87°10′30″

and rhumb lines joining points at:

Latitude North | Longitude West
30°24′36″ | 87°07′07″
30°22′57″ | 87°09′38″
30°22′36″ | 87°11′50″
30°19′21″ | 87°14′46″
30°19′52″ | 87°17′31″

and rhumb lines joining points at:

Latitude North | Longitude West
30°19′15″ | 87°17′37″
30°16′28″ | 87°16′32″
30°14′32″ | 87°16′06″
30°12′33″ | 87°15′43″
29°42′30″ | 87°15′43″

(42) Pensacola Anchorage. (i) The area within rhumb lines joining points at:

Latitude North | Longitude West
30°11′49″ | 87°22′41″
30°12′31″ | 87°18′00″
30°10′03″ | 87°18′00″
30°09′21″ | 87°22′41″

(ii) The area within rhumb lines joining points at:

Latitude North | Longitude West
30°16′28″ | 87°16′32″
30°17′14″ | 87°11′52″
30°15′14″ | 87°11′52″
30°14′32″ | 87°16′06″

(43) Pensacola to Panama City Safety Fairway. The area between rhumb lines joining points at:

Latitude North | Longitude West
30°14′32″ | 87°16′06″
30°15′14″ | 87°11′52″
30°18′45″ | 86°50′00″
30°18′00″ | 86°20′00″
29°51′30″ | 85°47′33″

and rhumb lines joining points at:

Latitude West | Longitude West
30°12′33″ | 87°15′43″
30°16′44″ | 86°49′49″
30°16′01″ | 86°20′57″
29°48′45″ | 85°47′33″

(44) Panama City Safety Fairways. The areas between rhumb lines joining points at:

Latitude North | Longitude West
30°09′24″ | 85°40′12″
30°09′21″ | 85°41′40″
30°07′36″ | 85°44′20″
30°06′32″ | 85°47′33″
29°51′30″ | 85°47′33″
29°48′45″ | 85°47′33″
29°03′30″ | 85°47′33″

and rhumb lines joining points at:

Latitude North | Longitude West
30°08′34″ | 85°40′16″
30°07′55″ | 85°41′50″
30°06′49″ | 85°43′28″
30°04′40″ | 85°45′15″
29°55′27″ | 85°45′15″
29°51′20″ | 85°45′15″
29°49′19″ | 85°45′15″
29°00′00″ | 85°45′15″

(45) Panama City Anchorage. The area within rhumb lines joining points at:

Latitude North | Longitude West
29°55′27″ | 85°45′15″
29°55′27″ | 85°42′25″
29°51′39″ | 85°42′25″
29°51′20″ | 85°45′15″

(46) Port St. Joe Fairway to Panama City Fairway. The area between rhumb lines joining points at:

Latitude North | Longitude West
29°49′54″ | 85°19′24″
29°50′59″ | 85°22′25″
29°53′32″ | 85°22′25″
29°54′12″ | 85°24′00″
29°54′12″ | 85°25′55″
29°52′58″ | 85°28′43″
29°53′00″ | 85°29′48″
29°51′39″ | 85°42′25″
29°51′20″ | 85°45′15″

and rhumb lines joining points at:

Latitude North | Longitude West
29°48′22″ | 85°18′12″
29°47′21″ | 85°21′00″
29°50′42″ | 85°23′31″
29°52′51″ | 85°23′36″
29°53′10″ | 85°24′18″
29°53′10″ | 85°25′33″
29°51′57″ | 85°28′19″
29°51′04″ | 85°29′00″
29°50′40″ | 85°32′39″
29°49′19″ | 85°45′15″

(47) Port St. Joe Anchorage. The area within rhumb lines joining points at:

Latitude North | Longitude West
29°50′40″ | 85°32′39″
29°51′04″ | 85°29′00″
29°49′18″ | 85°30′18″

(48) Tampa Safety Fairways. The area between rhumb lines joining points at:

Latitude North | Longitude West
27°37′48″ | 82°45′54″
27°36′48″ | 82°55′54″
27°36′48″ | 83°00′00″
27°36′48″ | 84°39′10″

and rhumb lines joining points at:

Latitude North | Longitude West
27°35′54″ | 82°45′42″
27°34′48″ | 82°55′54″
27°34′48″ | 83°00′00″
27°34′48″ | 84°39′00″

(49) Tampa Anchorages. (i) Eastern Tampa Fairway Anchorage. The area enclosed by rhumb lines [North American Datum of 1927 (NAD-27)] joining points at:

Latitude North | Longitude West
27°36′48″ | 83°00′00″
27°39′00″ | 83°00′00″
27°39′00″ | 82°55′54″
27°36′48″ | 82°55′54″

(ii) Western Tampa Fairway Anchorage. The area enclosed by rhumb lines [North American Datum of 1927 (NAD-27)] joining points at:

Latitude North | Longitude West
27°36′48″ | 83°05′06″
27°39′00″ | 83°05′06″
27°39′00″ | 83°01′00″
27°36′48″ | 83°01′00″

(50) Charlotte Safety Fairways. The area between rhumb lines joining points at:

Latitude North | Longitude West
26°41′18″ | 82°19′00″
25°30′00″ | 84°22′00″

and rhumb lines joining points at:

Latitude North | Longitude West
26°40′19″ | 82°18′28″
26°38′30″ | 82°19′54″
26°39′00″ | 82°19′00″
25°28′00″ | 84°21′30″

(51) Charlotte Anchorage. The area within rhumb lines joining points at:

Latitude North | Longitude West
26°39′00″ | 82°19′00″
26°38′12″ | 82°18′24″
26°37′36″ | 82°19′18″
26°38′30″ | 82°19′54″

(52) Louisiana Offshore Oil Port (LOOP) Shipping Safety Fairway to Safety Zone. (i) North of Gulf Safety Fairway. The two mile wide area enclosed by rhumb lines joining points at:

Latitude North | Longitude West
28°48′36″ | 89°55′00″
28°48′14″ | 89°54′17″
28°45′47″ | 89°54′19″
28°36′06″ | 89°55′44″
28°18′30″ | 89°55′15″
28°20′58″ | 89°53′03″
28°36′09″ | 89°53′28″
28°49′07″ | 89°51′30″
28°50′20″ | 89°53′51″

(ii) South of Gulf Safety Fairway. The two-mile-wide area enclosed by rhumb lines joining points at:

Latitude North | Longitude West
28°15′20″ | 89°55′10″
27°46′29″ | 89°54′23″
27°46′32″ | 89°52′08″
28°17′48″ | 89°52′58″

(53) Heald Bank Cutoff Safety Fairway. The area enclosed by rhumb lines [North American Datum of 1927 (NAD-27)], joining points at:

Latitude North | Longitude West
28°57′15″ | 94°23′55″
28°51′30″ | 93°56′30″
28°48′30″ | 93°51′45″
28°55′15″ | 94°23′55″

PART 173—VESSEL NUMBER AND CASUALTY AND ACCIDENT REPORTING

138. The authority citation for part 173 continues to read as follows:

Authority: 31 U.S.C. 9701; 46 U.S.C. 2110, 6101, 12301, 12302; OMB Circular A-25; Department of Homeland Security Delegation No. 0170.

139. In § 173.3, revise paragraph (g) to read as follows:

§ 173.3 Definitions.

* * * * *

(g) State means a State of the United States, the Commonwealth of Puerto Rico, the Virgin Islands, Guam, American Samoa, the Commonwealth of the Northern Mariana Islands, and the District of Columbia.

* * * * *

PART 174—STATE NUMBERING AND CASUALTY AND ACCIDENT REPORTING

140. The authority citation for part 174 continues to read as follows:

Authority: 46 U.S.C. 6101 and 12302; Department of Homeland Security Delegation No. 0170.1 (92).

§ 174.7 [Amended]

141. In § 174.7, remove the phrase “Office of Boating Safety” and add, in its place, the phrase “Office of Auxiliary and Boating Safety (CG-542)”.

§ 174.121 [Amended]

142. In § 174.121, remove the phrase “Commandant (G-OPB)” and add, in its place, the phrase “Commandant (CG-5422)”.

§ 174.125 [Amended]

143. In § 174.125, remove the phrase “Office of Boating Safety” and add, in its place, the phrase “Office of Auxiliary and Boating Safety (CG-542)”.

PART 179—DEFECT NOTIFICATION

144. The authority citation for part 179 continues to read as follows:

Authority: 43 U.S.C. 1333; 46 U.S.C. 4302, 4307, 4310, and 4311; Pub. L 103-206, 107 Stat. 2439; 49 CFR 1.46.

§ 179.19 [Amended]

145. In § 179.19 paragraph (a), remove the office symbol “(G-OPB-3)” and add, in its place, the office symbol “Commandant (CG-54223)”.

PART 181—MANUFACTURER REQUIREMENTS

146. The authority citation for part 181 continues to read as follows:

Authority: 46 U.S.C. 4302

§ 181.31 [Amended]

147. In § 181.31—

a. In paragraph (a), remove the word “Division” and add, in its place, the words “Branch (CG-54223)” and

b. In paragraph (b), remove the word “Division” and add, in its place, the words “Branch (CG-54223).”

§ 181.33 [Amended]

148. In § 181.33 paragraph (b), remove the word “Division” and add, in its place, the words “Branch (CG-54223).”

PART 183—BOATS AND ASSOCIATED EQUIPMENT

149. The authority citation for part 183 continues to read as follows:

Authority: 46 U.S.C. 4302; Pub. L 103-206, 107 Stat. 2439; 49 CFR 1.46.

§ 183.5 [Amended]

150. In § 183.5(a), remove the word “Division” and add, in its place, the words “Branch (CG-54223).”

PART 187—VESSEL IDENTIFICATION SYSTEM

151. The authority citation for part 187 continues to read as follows:

Authority: 46 U.S.C. 2103; 49 CFR 1.46.

152. In § 187.7, revise the definition of “Approved Numbering System” to read as follows:

§ 187.7 What are the definitions of terms used in this part?

* * * * *

Approved Numbering System means a numbering system approved by the Secretary of the Department of Homeland Security under 46 U.S.C. Chapter 123.

* * * * *

§ 187.11 [Amended]

153. In § 187.11 paragraph (a), remove the phrase “Commandant (G-OPB)” and add, in its place, the phrase “Commandant (CG-5422)”.

§ 187.13 [Amended]

154. In § 187.13 paragraph (a), remove the phrase “Commandant (G-OPB)” and add, in its place, the phrase “Commandant (CG-5422)”.

Dated: May 23, 2008.
Stefan G. Venckus,
Chief, Office of Regulations and Administrative Law, United States Coast Guard.

[FR Doc. E8-12643 Filed 6-18-08; 8:45 am]

BILLING CODE 4910-15-P